DEPARTMENT OF COMMERCE

Bureau of the Census

15 CFR Part 30

[Docket Number 031009254-4355-02]

RIN 0607-AA38

Foreign Trade Regulations: Mandatory Automated Export System Filing for All Shipments Requiring Shipper's Export Declaration Information

AGENCY: Bureau of the Census, Commerce Department.

ACTION: Notice of proposed rulemaking and request for comments.

SUMMARY: The U.S. Census Bureau (Census Bureau) proposes to amend the Foreign Trade Statistics Regulations (FTSR) to implement provisions in the Foreign Relations Authorization Act. Specifically, the Census Bureau proposes to require mandatory filing of export information through the Automated Export System (AES) or through the AESDirect for all shipments where a Shipper's Export Declaration (SED) is currently required. In addition to requiring mandatory AES filing, the proposed rule makes other changes to the FTSR. These additional changes are discussed in detail in the SUPPLEMENTARY INFORMATION section.

DATES: Submit written comments on or before April 18, 2005.

ADDRESSES: Please direct all written comments on this proposed rule to the Director, U.S. Census Bureau, Room 2049, Federal Building 3, Washington, DC 20233. You may also submit comments, identified by RIN number 0607-AA38, to the Federal e-Rulemaking Portal: http://www.regulations.gov. Please follow the instructions at that site for submitting comments.

FOR FURTHER INFORMATION CONTACT: C. Harvey Monk, Jr., Chief, Foreign Trade Division, U.S. Census Bureau, Room 2104, Federal Building 3, Washington, DC 20233-6700, by phone (301) 763-2255, by fax (301) 457-2645, or by e-mail: c.harvey.monk.jr@census.gov.

SUPPLEMENTARY INFORMATION:

Background

Reporting Requirements

The Census Bureau is responsible for collecting, compiling, and publishing export trade statistics for the United States under the provisions of Title 13, United States Code (U.S.C.), Chapter 9, Section 301. The paper SED and the AES are the primary media used for collecting export trade data, and the information contained therein is used by the Census Bureau for statistical purposes only. Information reported in the AES is referred to as Electronic Export Information (EEI). The SED and the EEI also are used for export control purposes under Title 50, U.S.C., Export Administration Act, to detect and prevent the export of certain items by unauthorized parties or to unauthorized destinations or end users. Information collected through the SED or AES is exempt from public disclosure unless the Secretary of Commerce determines that such exemption would be contrary to the national interest under the provisions of Title 13, U.S.C., Chapter 9, Section 301(g).

Under current regulations, export information is compiled from both paper and electronic transactions filed by the exporting community with the Bureau of Customs and Border Protection (CBP, formerly the U.S. Customs Service) and the Census Bureau. The AES is an electronic method for filing the paper SED information directly with CBP and the Census Bureau. The AESDirect is the Census Bureau's free Internet-based system for filing SED information with the AES. Future references to the AES also shall apply to the AESDirect unless otherwise specified.

A paper SED or the equivalent EEI is currently required, with certain exceptions, for exports of goods from the United States, including Foreign Trade Zones (FTZs) located therein, Puerto Rico, and the U.S. Virgin Islands to foreign countries; for exports between the United States and Puerto Rico; and for exports to the U.S. Virgin Islands from the United States or Puerto Rico. The SED or the EEI also is required for all exports requiring a license from the Bureau of Industry and Security (BIS), a license or license exception from the Department of State, or other government agency, regardless of value, unless exempted from the requirement for a SED or EEI by the licensing government agency.

Electronic Filing

Electronic filing strengthens the U.S. Government's ability to prevent the export of certain items by unauthorized parties to unauthorized destinations and end users, because AES aids in targeting and identifying suspicious shipments prior to export and affords the government the ability to significantly improve the quality, timeliness, and coverage of export statistics. Since July 1995, the AES has served as an information gateway for the Census Bureau and CBP to improve the reporting of export trade information, customer service, compliance with and enforcement of export laws, and provide paperless reports of export information.

On November 29, 1999, the President signed into law the Proliferation Prevention Enhancement Act of 1999, which authorized the Secretary of Commerce to require the mandatory filing of items on the Commerce Control List (CCL) and the U.S. Munitions List (USML). Regulations implementing this requirement were effective October 2003 (see 68 FR 42533-42543). On September 30, 2002, the President signed into law the Foreign Relations Authorization Act, Public Law 107-228. This law authorizes the Secretary of Commerce, with the concurrence of the Secretary of State and the Secretary of Homeland Security, to publish regulations in the Federal Register mandating that all persons who are required to file export information via the SED under Chapter 9 of Title 13, U.S.C. file such information through the AES.

The Foreign Relations Authorization Act further authorizes the Secretary of Commerce to issue regulations regarding imposition of penalties, both civil and criminal, for the delayed filing, failure to file, and false filing of export information and/or using the AES to further any illegal activity. The Act provides for administrative proceedings for imposition of a civil penalty for violation(s) of Public Law 107-228. Finally, the Act authorizes the Secretary of Commerce to designate employees of the Office of Export Enforcement of the Department of Commerce to perform the enforcement functions in Title 13, U.S.C., Chapter 9, and delegate to customs officials in the U.S. Department of Homeland Security authority to enforce these same provisions.

On October 22, 2003, the Census Bureau published an advanced notice of proposed rulemaking (ANPR) in the Federal Register (68 FR 60301) announcing the Census Bureau's intent to propose a rule mandating electronic filing through the AES of all information on export shipments where a SED is required and allowing the public to comment on this subject. The Census Bureau received and responded to two (2) non-substantive comments to the ANPR. One commenter expressed continued support for postdeparture filing with mandatory AES filing. The second commenter was concerned about the ability to file complete export information prior to exportation under the mandatory filing system. Specifically, the commenter was concerned that accurate quantity data would not be available in the time frames required by the revised regulations. The Census Bureau did not change the proposed rule in response to these comments since post-departure filing remains an option under the proposed rule to allow approved exporters the option to file export information within ten working days from the date of exportation.

Program Requirements

To comply with the requirements of Public Law 107-228, the Census Bureau proposes amending in its entirety the FTSR to specify the requirements for the mandatory reporting of all export information through the AES when a SED is required. All future references to the SED shall be referred to as AES.

The Census Bureau proposes amending the FTSR to include the following changes:

• Rename the FTSR to “Part 30—Foreign Trade Regulations” (FTR) to more accurately reflect the scope of the revised regulations implementing full mandatory AES filing, such as the inclusion of Department of State requirements and the advanced filing requirement implemented by CBP.

• Remove requirements for filing a paper SED (Option 1), Form 7525-V, from Title 15, Code of Federal Regulations (CFR), part 30, so that AES will be the only mode for filing information currently required by the SED.

• Remove requirements for filing the intransit SED, Form 7513, from 15 CFR part 30. Responsibility for Form 7513 was transferred to the U.S. Department of the Army, U.S. Army Corps of Engineers.

• In § 30.2, list types of export transactions outside the scope of 15 CFR part 30 and thus the FTR. The list of out-of-scope transactions included in § 30.2 is not all-inclusive, but includes those types of shipments about which the Census Bureau receives frequent inquiries on how to report export information. These types of shipments are to be excluded from EEI filing.

• In § 30.2(a)(2), include language specifying the four optional means for filing EEI of which two methods require the development of AES software using the Automated Export System Trade Interface Requirements (AESTIR).

• In § 30.3, include language specifying that in “routed” transactions, the U.S. principal party in interest (USPPI) will compile and transmit export information on behalf of the foreign principal party in interest (FPPI) when authorized by the FPPI. This language is consistent with the language of § 758.3 of the Export Administration Regulations and permits the USPPI to act as an agent of the FPPI upon the written authorization by the FPPI.

• In § 30.5, revise the postdeparture (formerly Option 4) approval procedures. Certification and approval requirements for postdeparture filing of EEI were strengthened to address U.S. national security concerns and interests. Applications submitted by USPPIs for postdeparture filing will be subjected to closer scrutiny by the Census Bureau and other federal government partnership agencies participating in the AES postdeparture filing review process. Under the proposed revised postdeparture filing requirements: (1) authorized agents may no longer apply for postdeparture filing status on behalf of individual USPPIs. Only USPPIs may apply; (2) USPPIs must demonstrate the ability to meet AES predeparture filing requirements by filing EEI to the AES before applying for approval for postdeparture filing; (3) USPPIs must meet a minimum number of shipments requirement before being authorized to file postdeparture; and (4) partnership agencies of the U.S. Government shall determine whether or not a USPPI poses a significant threat to U.S. national security before granting the applicant postdeparture filing status.

• In § 30.4, specify the time and place-of-filing requirements for presenting proof of filing citations, postdeparture filing citations, and/or exemption legends. Specific time and place-of-filing requirements are included in the FTR in accordance with provisions of Section 341(a) of Public Law 107-210, the Trade Act of 2002. With the exception of State Department USML shipments under the control of the International Traffic in Arms Regulations and shipments approved for postdeparture filing, EEI with the appropriate proof of filing citations and/or exemption legends is required to be transmitted to the exporting carrier within specified time frames depending on the mode of transportation used. For example, transmissions for vessel cargo shall be provided to the exporting carrier no later than 24 hours prior to departure of the vessel from the U.S. port where cargo is laden. Time and place-of-filing requirements for other modes of transportation also are presented in § 30.4 of the proposed FTR. Currently, export information, with appropriate proof of filing citations and/or exemption legends, is only required to be presented to the exporting carrier prior to exportation.

• In § 30.4(b)(1) and § 30.4(b)(3) specify how to file EEI and acquire an ITN when AES, AESDirect or the participant's AES is unavailable for filing.

• In § 30.6, add language specifying the specific procedure for reporting the value of goods to the AES when inland freight and insurance charges are not known at the time of exportation. When goods are sold at a point other than the port of export, freight, insurance, and other charges required to move the goods from their U.S. point of origin to the carrier at the port of export must be added to the selling price (or cost, if not sold) of the goods. Where the actual amount of freight, insurance, and other domestic charges are not available, an estimate of the domestic cost must be made and added to the cost or selling price of the goods to obtain the value to be reported to the AES.

• In § 30.6, add requirements for transmitting a Routed Transaction Indicator and a Vehicle Identification Qualifier to the list of data elements required to be reported to the AES. Both the Routed Transaction Indicator and the Vehicle Identification Qualifier indicate the conditions of other data elements reported to the AES. The Routed Transaction Indicator gives an indication of whether or not the EEI reported represents a routed export transaction. The Vehicle Identification Qualifier, when reported, identifies the type of used vehicle exported.

• Remove requirements for the Date of Arrival and the Waiver of Prior Notice Indicator from the list of data elements required to be reported to the AES. These data elements were previously required to overcome disparities in reporting requirements for certain export shipments sent between the United States and Puerto Rico. With mandatory AES reporting, the Date of Arrival and Waiver of Prior Notice Indicator are no longer required, since shipments sent between the United States and Puerto Rico will no longer be reported differently than other export shipments.

• Reference in subpart B export control and export licensing issues relevant to 15 CFR part 30. This subpart proposes to add references to export control and licensing requirements of the Department of State and other Federal agencies in addition to expanding those of the Department of Commerce's BIS. General guidelines for obtaining export control and licensing information also are presented for use by preparers and filers of EEI. The purpose of this subpart is to consolidate references to export control issues. No new requirements are introduced.

• In § 30.29, revise the language that describes the proper manner for reporting cost of repairs and/or alterations to goods, and the reporting of the value of replacement parts exported. The previous version of the FTSR did not specifically describe the manner in which these export transactions would be reported. Goods previously imported for repair and alteration only, and reexported, shall only include the value for parts and labor. Goods exported as replacement parts shall only include the value of the replacement part. No new requirements are specified in § 30.29.

• Reference in subpart E carrier and manifest issues pertaining to provisions relevant to 15 CFR part 30. Carrier and manifest issues are consolidated in subpart E. Requirements for SEDs being attached to the manifest are replaced with requirements for proof of filing citations and/or exemption legends to be shown on the bill of lading, air waybill, or other commercial loading documents attached to the manifest. Specific requirements for annotating the bill of lading, air waybill, or other commercial loading documents are included in § 30.7, subpart A of part 30.

• Reference in subpart F reporting requirements for import shipments relevant to 15 CFR part 30, including requirements for the electronic filing of statistical data for shipments imported into FTZs. Currently, requirements for electronically reporting FTZ admissions are included in the Census Bureau's “Automated Foreign Trade Zone Reporting Program” manual. Added to subpart F are instructions to import filers on where to obtain information on reporting import data. Requirements for information on imports of goods into Guam are excluded from the FTR since Guam collects its own information on goods entering and leaving the area.

• Create a new subpart H to cover FTR penalty provisions formerly addressed in § 30.95 of the FTSR. New penalty provisions referenced in subpart H of this part describe the increase in penalties imposed for violations from $100 to $1,000 per each day of delinquency, to a maximum from $1,000 to $10,000 per violation. In addition, the penalty provisions provide for situations when the filer knowingly fails to file, files false and/or misleading information and other violations of the FTR where a civil penalty shall not exceed $10,000 per violation and a criminal penalty shall not exceed $10,000 or imprisonment for not more than five (5) years, or both, per violation. Finally, subpart H provides for the enforcement of these penalty provisions by the Bureau of Industry and Security's Office of Export Enforcement (OEE) and the Department of Homeland Security's CBP, Immigration and Customs Enforcement (ICE).

• Make other non-substantive revisions including revisions to language incorporated from the current FTSR, to clarify the intent of the regulations.

The Departments of State and Homeland Security concur with the provisions contained in this notice of proposed rulemaking.

Rulemaking Requirements

Regulatory Flexibility Act

The Chief Counsel for Regulation of the Department of Commerce certified to the Chief Counsel for Advocacy of the Small Business Administration (SBA) that this rule will not have a significant impact on a substantial number of small entities. This action would require that USPPIs or authorized agents in the United States file export information through the AES for all shipments where a SED is required under the current FTSR.

The SBA's table of size standards indicates that businesses that are the USPPI or authorized agent and file export information are considered small businesses if they employ less than 500 people. Based on year 2001 data, the Census Bureau estimates that there are 91,000 USPPIs that are considered small entities under the Small Business Act. Over 90 percent of USPPIs use an authorized agent to file export documentation. An estimate of the number of authorized agents is not known.

The Census Bureau anticipates that the new requirement would not significantly affect the small businesses that must now file through the AES. It is unlikely that the regulations requiring mandatory use of the AES to file export information would affect a substantial number of small entities because more than 90 percent of USPPIs that are considered small entities use an authorized agent to file export documentation. Also, while this regulation would likely affect a substantial number of agents that are small entities it is not likely that the effect will be significant. The majority of agents require use of a computer to perform required tasks. These agents are unlikely to be significantly affected by this new requirement, as they currently possess the technology and equipment to submit the information through the AES. The Census Bureau has provided a free Internet-based system, AESDirect, especially for small businesses to submit their export information electronically. It would not be necessary for small businesses to purchase software for this task. For these reasons, if this proposed rule is adopted, this rule would not have a significant economic impact on a substantial number of small entities.

Executive Orders

This rule has been determined to be not significant for purposes of Executive Order 12866. It has been determined that this rule does not contain policies with federalism implications as that term is defined under Executive Order 13132.

Paperwork Reduction Act

Notwithstanding any other provision of law, no person is required to respond to, nor shall a person be subject to a penalty for failure to comply with, a collection of information subject to the requirements of the Paperwork Reduction Act (PRA), unless that collection of information displays a current, valid Office of Management and Budget (OMB) control number. This rule contains a collection-of-information subject to the requirements of the PRA (44 U.S.C. 3501 et seq.) and that has been approved under OMB control number 0607-0152. The estimated burden hours for filing the SED information through AES and related documents (e.g., the Letter of Intent (LOI) and AESDirect) are 752,000. In addition, this rule contains a collection of information that has been approved under OMB control numbers: OMB No. 1651-0022 (Entry Summary—CBP-7501), OMB No. 1651-0027 (Record of Vessel, Foreign Repair, or Equipment—CBP-226), and OMB No. 1651-0029 (Application for Foreign Trade Zone Admission and Status Designation—CBP-214). The public's reporting burden for the collection-of-information requirements includes the time for reviewing instructions, searching existing data sources, gathering and maintaining the data needed, and completing and reviewing the collection-of-information requirements.

List of Subjects in 15 CFR Part 30

Economic statistics, Foreign trade, Exports, Reporting and recordkeeping requirements.

For the reasons stated in the preamble, the Census Bureau proposes to revise 15 CFR part 30 to read as follows:

PART 30—FOREIGN TRADE STATISTICS

Subpart A—General Requirements
Sec.
30.1 Purpose and definitions.
30.2 General requirements for filing Electronic Export Information.
30.3 Electronic Export Information filer requirements, parties to export transactions, and responsibilities of parties to export transactions.
30.4 Electronic Export Information filing procedures, deadlines, and certification statements.
30.5 Electronic Export Information filing application and certification processes and standards.
30.6 Electronic Export Information data elements.
30.7 Annotating the bill of lading, air waybill, and other commercial loading documents with the proper proof of filing citations, approved postdeparture filing citations, downtime filing citation, and exemption legends.
30.8 Time and place for presenting proof of filing citations, postdeparture filing citations, downtime filing citation, and exemption legends.
30.9 Transmitting and correcting Automated Export System information.
30.10 Authority to require production of documents and retaining electronic data.
30.11-30.14 [Reserved]
Subpart B—Export Control and Licensing Requirements
30.15 Introduction.
30.16 Export Administration Regulations.
30.17 Customs and Border Protection Regulations.
30.18 Department of State regulations.
30.19 Other federal agency regulations.
30.20-30.24 [Reserved]
Subpart C—Special Provisions and Specific-Type Transactions
30.25 Values for certain types of transactions.
30.26 Reporting of vessels, aircraft, cargo vans, and other carriers and containers.
30.27 Return of exported cargo to the United States prior to reaching its final destination.
30.28 “Split shipments” by air.
30.29 Reporting of repairs and replacements.
30.30-30.34 [Reserved]
Subpart D—Exemptions from the Requirements for the Filing of Electronic Export Information
30.35 Procedure for shipments exempt from filing requirements.
30.36 Exemption for shipments destined to Canada.
30.37 Miscellaneous exemptions.
30.38 Exemption from the requirements for reporting complete commodity information.
30.39 Special exemptions for shipments to the U.S. armed services.
30.40 Special exemptions for certain shipments to U.S. Government agencies and employees.
30.41-30.44 [Reserved]
Subpart E—General Carrier and Manifest Requirements
30.45 General statement of requirement for the filing of carrier manifests with proof of filing citations for the electronic submission of export information or exemption legends when Automated Export System filing is not required.
30.46 Requirements for the filing of export information by pipeline carriers.
30.47 Clearance or departure of carriers under bond on incomplete manifests.
30.48-30.49 [Reserved]
Subpart F—Import Requirements
30.50 General requirements for filing import entries.
30.51 Statistical information required for import entries.
30.52 Foreign Trade Zones.
30.53 Import of goods returned for repair.
30.54 Special provisions for imports from Canada.
30.55 Confidential information, import entries, and withdrawals.
30.56-30.59 [Reserved]
Subpart G—General Administrative Provisions
30.60 Confidentiality of Electronic Export Information.
30.61 Statistical classification schedules.
30.62 Emergency exceptions.
30.63 Office of Management and Budget control numbers assigned pursuant to the Paperwork Reduction Act.
30.64-30.69 [Reserved]
Subpart H—Penalties
30.70 Violation of the Clean Diamond Trade Act.
30.71 False or fraudulent reporting on or misuse of the Automated Export System.
30.72 Civil penalty procedures.
30.73 Enforcement.
30.74-30.99 [Reserved]

Appendix A To Part 30—Format for the Letter of Intent, Automated Export System

Appendix B To Part 30—Sample for Power of Attorney and Written Authorization

Authority: 5 U.S.C. 301; 13 U.S.C. 301-307; Reorganization plan No. 5 of 1990 (3 CFR 1949-1953 Comp., 1004); Department of Commerce Organization Order No. 35-2A, July 22, 1987, as amended; Pub. L. 107-228, September 30, 2002.

Subpart A—General Requirements

§ 30.1 Purpose and definitions.

(a) This part sets forth the Foreign Trade Regulations (FTR) as required under provisions of Title 13, United States Code (U.S.C.), Chapter 9, Section 301. These regulations are revised pursuant to provisions of the Foreign Relations Authorization Act, Public Law 107-228. This Act authorizes the Secretary of Commerce, with the concurrence of the Secretary of State and the Secretary of Homeland Security, to publish regulations mandating that all persons who are required to file export information under Chapter 9 of Title 13, U.S.C., file such information through the Automated Export System (AES) for all shipments where a Shipper's Export Declaration (SED) was previously required. The law further authorizes the Secretary of Commerce to issue regulations regarding imposition of civil and criminal penalties for violations of the provisions of these regulations.

(b) Electronic filing through the AES strengthens the U.S. Government's ability to prevent the export of certain items by unauthorized parties to unauthorized destinations and end users because AES aids in targeting, identifying, and when necessary confiscating suspicious or illegal shipments prior to exportation.

(c) Definitions used with Electronic Export Information. As used in this part, the following definitions apply:

AES Applicant. The USPPI or authorized agent who applies to the Census Bureau for authorization to report information electronically to the AES, or through AESDirect or its related applications.

AESDirect. A free Internet application supported by the Census Bureau that allows USPPIs or their agents to transmit EEI to the AES via the Internet, at http://www.aesdirect.gov.

AES Downtime Filing Citation. A statement used in place of a proof of filing citation when the AES or the AES participant's computer system experiences a major failure. The downtime filing citation must appear on the bill of lading, air waybill, or other commercial loading documentation.

Air Waybill. The shipping document used for the transportation of air freight: Includes conditions, limitations of liability, shipping instructions, description of commodity, and applicable transportation charges. It is generally similar to a straight non-negotiable bill of lading and is used for similar purposes.

Alongside. A phrase referring to the side of a ship. Goods to be delivered “alongside” are to be placed on the dock within reach of a transport ship's tackle so that they can be loaded aboard the ship.

Annotation. An explanatory note (e.g., proof of filing citation, postdeparture filing citation, AES downtime filing citation, or exemption legend) placed on the bill of lading, air waybill, or other loading document.

Authorized Agent. An individual or legal entity domiciled in or otherwise under the jurisdiction of the United States that has obtained power of attorney or written authorization from a USPPI or FPPI to act on its behalf, and for purposes of this part, to complete and file the EEI.

Automated Broker Interface (ABI). A CBP system through which an importer or licensed customs broker can electronically file entry and entry summary data on goods imported into the United States.

Automated Export System (AES). The electronic system, including AESDirect, for collecting Shipper's Export Declaration information (or any successor document) from persons exporting goods from the United States, Puerto Rico, or the U.S. Virgin Islands; between Puerto Rico and the United States; and to the U.S. Virgin Islands from the United States or Puerto Rico.

Automated Export System Trade Interface Requirements (AESTIR). The document that describes the operational requirements of the AES. The AESTIR presents record formats and other reference materials used in the AES.

Automated Foreign Trade Zone Reporting Program (AFTZRP). The electronic reporting program used to transmit statistical data on goods admitted into a FTZ directly to the Census Bureau.

Bill of Lading (BL). A document that establishes the terms of a contract between a shipper and a transportation company under which freight is to be moved between specified points for a specified charge. Usually prepared by the authorized agent on forms issued by the carrier, it serves as a document of title, a contract of carriage, and a receipt for goods.

Bond. An instrument used by CBP as a security to ensure the performance of specific acts, such as the payment of duties and taxes or the provision of manifest information.

Bonded Warehouse. An approved private warehouse used for the storage of goods until duties or taxes are paid and the goods are properly released by CBP. Bonds must be posted by the warehouse proprietor and by the importer to indemnify the government if the goods are released improperly.

Booking. A reservation made with a carrier for a shipment on a specific voyage or flight.

Buyer. The entity who has entered into the export transaction to purchase the commodities for delivery to the ultimate consignee.

Cargo. Goods being transported.

Carnet. An international customs document permitting the holder to carry or send goods temporarily into certain foreign countries without paying duties or posting bonds.

Carrier. An individual or legal entity in the business of transporting passengers or goods. Airlines, trucking companies, railroad companies, shipping lines, pipeline companies, non-vessel operating common carriers, and slot charterers are all examples of carriers.

Civil Penalty. A monetary penalty imposed on a USPPI or authorized agent for failing to file export information, filing false or misleading information, filing information late, and/or using the AES to further any illegal activity.

Commerce Control List (CCL). A list of all items—commodities, software, and technical data—that are subject to BIS export controls. It incorporates not only the national security controlled items agreed to by the Coordinating Committee on Multilateral Export Controls, but also items controlled for foreign policy and other reasons.

Commodity. Articles exchanged in trade, and commonly used to refer to raw materials and bulk-produced agriculture products.

Compliance Alert. A notice sent to the filer by the AES when the shipment was not reported in accordance with this part (e.g., late filing). The filer is required to review filing practices and take steps to conform with export reporting requirements.

Consignee. The person or entity named in a freight contract to whom goods have been consigned and that has the legal right to claim the goods at the destination.

Consignment. Delivery of goods from an exporter (the consignor) to an agent (consignee) under agreement that the agent sells the goods for the account of the exporter. The consignor retains title to the goods until sold. The consignee sells the goods for commission and remits the net proceeds to the consignor.

Container. A uniform, sealed, reusable metal “box” in which goods are shipped by vessel, truck, or rail.

Controlling Agency. The agency responsible for the license determination on specified goods exported from the United States.

Country of Origin. The country where the goods were mined, grown, or manufactured or where each foreign material used or incorporated in a good underwent a change in tariff classification under the applicable rule of origin for the good. The country of origin for U.S. imports shall be reported in terms of the International Standards Organization (ISO) codes designated in the Schedule C, Classification of Country and Territory Designations.

Country of Ultimate Destination. The country where the goods are to be consumed, further processed, or manufactured, as known to the shipper at the time of exportation.

Criminal Penalty. For the purpose of this part, a penalty imposed for knowingly failing to file export information, filing false or misleading information, filing information late, and/or using the AES to further illegal activity. The criminal penalty includes fines, imprisonment, and/or forfeiture.

Customs Broker. An individual or entity licensed to enter and clear imported goods through CBP for another individual or entity.

Destination. The foreign place to which a shipment is consigned.

Distributor. An agent who sells directly for a supplier and maintains an inventory of the supplier's products.

Domestic Exports. Commodities that are grown, produced, or manufactured in the United States, and commodities of foreign origin that have been changed in the United States, including changes made in a U.S. FTZ, from the form in which they were imported, or that have been enhanced in value by further manufacture in the United States.

Domicile. A place of permanent residence or business.

Drayage. The charge made for hauling freight, carts, drays or trucks.

Dun & Bradstreet Number (DUNS). The DUNS Number is a unique 9-digit identification sequence that provides identifiers to single business entities while linking corporate family structures together.

Dunnage. Materials placed around cargo to prevent shifting or damage while in transit.

Duty. A charge imposed on the import of goods. Duties are generally based on the value of the goods (ad valorem duties), some other factor such as weight or quantity (specific duties), or a combination of value and other factors (compound duties).

Electronic Export Information (EEI). The electronic equivalent of the export data formerly collected on the Shipper's Export Declaration (SED) now mandated to be filed through the AES or AESDirect.

Employer Identification Number (EIN). The USPPI's Internal Revenue Service Employer Identification Number is the 9-digit numerical code as reported on the Employer's Quarterly Federal Tax Return, Treasury Form 941.

End-User. The person abroad that receives and ultimately uses the exported or reexported items. The end-user is not an authorized agent or intermediary, but may be the purchaser or ultimate consignee.

Enhancement. A change or modification to goods that increases their value.

Entry Number. Consists of a three-position entry filer code and a seven-position transaction code, plus a check digit assigned by the entry filer as a tracking number for goods entered into the United States.

Equipment Number. The identification number for shipping equipment, such as container or igloo number, truck license number or rail car number.

Exception. A determination by BIS that releases the USPPI or the authorized agent from the necessity to apply for a license from the agency.

Exemption. A specific reason as cited within this part that eliminates the requirement for filing EEI.

Exemption Legend. A notation placed on the bill of lading, air waybill, or other commercial loading document that describes the basis for not filing EEI for an export transaction. The exemption legend shall reference the number of the section or provision in this part where the particular exemption is provided (for example, § 30.38).

Export. To send or transport goods out of a country for consumption in another country.

Export Control. The establishment of procedures for the governmental control of exports for statistical or strategic purposes.

Export Control Classification Number (ECCN). Formerly Export Commodity Classification Number within the CCL. Every product on the CCL has an ECCN consisting of a five-character number that identifies categories, product groups, strategic level of control, and country groups.

Export License. A controlling agency document authorizing export of particular goods in specific quantities or values to a particular destination. Issuing agencies include but are not limited to: The U.S. State Department, Bureau of Industry and Security, and Bureau of Alcohol, Tobacco, and Firearms.

Export Statistics. Export statistics measure the quantity or value of goods (except for shipments to U.S. military forces overseas) moving out of the United States to foreign countries, whether such goods are exported from within the Customs territory of the United States, a CBP bonded warehouse, or a U.S. FTZ.

Export Value. The estimated worth of goods at the port of export; for example, the selling price or the cost (if the goods are not sold) including inland or domestic freight, insurance, and other charges to the U.S. port of export.

Fatal Error Message. A notice sent to the filer by the AES when invalid data or a critical condition has been encountered and the EEI has been rejected. The filer is required to immediately address the problem, correct the data, and retransmit the EEI.

Foreign Exports. Commodities of foreign origin that have entered the United States for consumption, for entry into a CBP bonded warehouse or U.S. FTZ, and which, at the time of exportation, are in substantially the same condition as when imported.

Foreign Principal Party in Interest (FPPI). The party shown on the transportation document to whom final delivery or end-use of the goods will be made. If the FPPI is in the United States when the goods are purchased or obtained for export, it must be shown as the USPPI. If an individual representing the foreign entity does not possess an EIN or SSN, their passport number, border crossing card number, or other official document number must be shown in the USPPI field of the EEI.

Foreign Trade Zone (FTZ). Special commercial and industrial areas in or near ports of entry where foreign and domestic goods, including raw materials, components, and finished goods, may be brought in without being subject to payment of customs duties. Goods brought into these zones may be stored, sold, exhibited, repacked, assembled, sorted, graded, cleaned, or otherwise manipulated prior to reexport or entry into the country's customs territory.

Forwarding Agent. The person in the United States who is authorized by the principal party in interest to move the cargo from the United States to the foreign destination and/or prepare and file the required documentation.

Goods. Merchandise, supplies, raw materials, and products.

Harmonized System. A method of classifying goods in international trade developed by the Customs Cooperation Council (now the World Customs Organization).

Harmonized Tariff Schedule (HTS). An organized listing of goods and their duty rates, developed by the U.S. International Trade Commission, that is used by CBP as the basis for classifying imported products, including establishing the duty to be charged and providing statistical information about imports and exports.

Imports. All goods physically moving into the United States, including:

(1) Commodities of foreign origin and

(2) Goods of domestic origin returned to the United States with no change in condition, or after having been processed and/or assembled in other countries.

Inbond. A procedure established by CBP under which goods are transported or warehoused under CBP supervision until the goods are either formally entered into the customs territory of the United States and duties paid, or until they are exported from the United States. The procedure is so named because the cargo moves under the carrier's bond (financial liability assured by the carrier) from the gateway seaport or airport and remains “in bond” until CBP releases the cargo at the inland Customs point or at the port of export.

Inland Freight. The cost to ship commodities between domestic ports and points inland by rail, air, road, or water, other than baggage, express mail, or regular mail.

Intermediate Consignee. The person or entity in the foreign country who acts as an agent for a principal party in interest with the purpose of effecting delivery of items to the ultimate consignee. The intermediate consignee may be a bank, forwarding agent, or other person who acts as an agent for a principal party in interest.

Internal Transaction Number (ITN). The system generated number assigned to a shipment confirming that the AES transmission was accepted and is on file in AES.

Interplant Correspondence. Records or documents from a U.S. firm to its subsidiary or affiliate, whether in the United States or overseas.

Intransit. Goods shipped through the United States, Puerto Rico, or the U.S. Virgin Islands from one foreign country or area to another foreign country or area without entering the consumption channels of the United States.

ISO Country Codes. The 2-position alphabetic International Standards Organization code for countries.

Letter of Intent (LOI). A written statement of an individual or a company's desire to participate in the AES. It sets forth a commitment to develop, maintain, and adhere to CBP and Census Bureau performance requirements and operational standards.

License Applicant. The person who applies for an export or reexport license for agency-controlled commodities. (For example, obtaining a license for goods that are listed on the CCL.)

Loading Document. A document that establishes the terms of a contract between a shipper and a transportation company under which freight is to be moved between points for a specific charge. It is usually prepared by the shipper and actuated by the carrier and serves as a document of title, a contract of carriage, and a receipt for goods. For example, the air waybill, inland bill of lading, ocean bill of lading, and through bill of lading are all loading documents.

Manifest. A document listing and describing the cargo contents of a carrier, container, or warehouse. Carriers required to file manifests with the CBP Port Director must include a proof of filing citation, AES downtime filing citation, postdeparture filing citation, or exemption legend for all cargo being transported.

Merchandise. See commodity or goods.

Mode of Transportation. The method by which goods arrive in or are exported from the United States by way of seaports, airports, or land border crossing points. Modes of transportation include vessel, air, truck, rail, or other. When goods are transshipped across land borders, the mode of transportation to be reported is that by which the goods enter or depart from the United States.

North American Free Trade Agreement (NAFTA). A formal agreement, or treaty, between Canada, Mexico, and the United States to promote trade amongst the three countries. It includes measures for the elimination of tariffs and non-tariff barriers to trade, as well as numerous specific provisions concerning the conduct of trade and investment.

Order Party. The person in the United States that conducts the direct negotiations or correspondence with the foreign purchaser or ultimate consignee and who, as a result of these negotiations, receives the order from the foreign purchaser or ultimate consignee. If a U.S. order party directly arranges for the sale and export of goods to a foreign entity, the U.S. order party shall be listed as the USPPI in the EEI.

Packing List. A list showing the number and kinds of items being shipped as well as other information needed for transportation purposes.

Partnership Agencies. U.S. Government agencies that have statistical and analytical reporting and/or monitoring and enforcement responsibilities related to AES postdeparture filing privileges.

Party Type. Identifies whether the Party ID is an EIN, SSN, DUNS, or Foreign Entity reported to the AES, for example, E=EIN, S=SSN, D=DUNS, T=Foreign Entity.

Person. In legal usage, any natural person, corporation or other entity, domestic or foreign.

Port of Export. The seaport of CBP airport where the goods are loaded on the exporting carrier that is taking the goods out of the United States, or the port where exports by overland transportation cross the U.S. border into foreign territory. In the case of an export by mail, it includes the place of mailing.

Postdeparture Filing. The privilege granted to approved USPPIs to file commodity data up to 10 calendar days after the date of export.

Postdeparture Filing Citation. A notation placed on the bill of lading, air waybill, or other commercial loading document from an approved USPPI that states that the EEI will be filed after departure of the carrier.

Power of Attorney. A legal authorization from a USPPI or FPPI stating that the agent has authority to act as its true and lawful agent for purposes of preparing and filing the EEI in accordance with the laws and regulations of the United States.

Primary Benefit. Receiving the greatest satisfaction from an export trade negotiation; usually monetary.

Principal Parties in Interest. Those persons in a transaction that receive the primary benefit, monetary or otherwise, from the transaction. Generally, the principals in a transaction are the seller and the buyer. In most cases, the forwarding or other agent is not a principal party in interest.

Proof of Filing Citation. A notation placed on the bill of lading, air waybill, or other commercial loading document, usually for carrier use, that provides evidence that export information has been filed and accepted as transmitted through the AES.

Reexport. For statistical purposes: exports of foreign-origin goods that have previously entered the United States or Puerto Rico for consumption, entry into a CBP bonded warehouse, or a U.S. FTZ, and at the time of exportation, have undergone no change in form or condition or enhancement in value by further manufacture in the United States, Puerto Rico, the U.S. Virgin Islands, or U.S. FTZs. For the purpose of goods subject to export controls (e.g., U.S. Munitions List (USML) articles): the shipment of U.S.-origin products from one foreign destination to another.

Related Party Transaction. A transaction involving trade between a USPPI and ultimate consignee in which one exercises at least 10 percent of interest or more (voting securities) in both.

Remission. The cancellation or release from a penalty, including fines, imprisonment, and/or forfeiture, under this part.

Retention. The necessary act of keeping all documentation pertaining to an export transaction for a period of at least five years for an EEI filing, or a time frame designated by the controlling agency for licensed shipments.

Routed Export Transaction. A transaction where the FPPI authorizes a U.S. agent to facilitate export of items from the United States on its behalf.

Schedule B. The Statistical Classification of Domestic and Foreign Commodities Exported from the United States. These 10-digit commodity classification numbers are administered by the Census Bureau and cover everything from live animals and food products to computers and airplanes. It should also be noted that all import and export codes used by the United States are based on the Harmonized Tariff System. (See HTS.)

Schedule C. The Classification of Country and Territory Designations. The Schedule C provides a list of country of origin codes. The country of origin is reported in terms of International Standards Organization codes.

Schedule D. The classification of CBP ports. The Schedule D provides a list of CBP ports and the corresponding numeric codes used in compiling U.S. foreign trade statistics.

Schedule K. The Classification of Foreign Ports by Geographic Trade Area and Country. The Schedule K lists the major seaports of the world that directly handle waterborne shipments in the foreign trade of the United States, and includes numeric codes to identify these ports. This schedule is maintained by the Army Corps of Engineers.

Seller. The party, usually the manufacturer, producer, wholesaler, or distributor of the goods, that receives the monetary benefit of the export transaction (price) or other consideration for the exported goods.

Shipment. Unless as otherwise provided, all goods being sent from one exporter to one consignee in a single country of destination on a single conveyance.

Shipment Reference Number. A unique identification number assigned by the EEI filer for reference purposes. This number must remain unique for a period of five years.

Shipping Weight. The total weight of a shipment in kilograms including goods and packaging.

Split Shipment. A shipment booked for export on one aircraft but split by the carrier and sent on two or more aircraft of the same carrier.

Subzone. A special purpose foreign trade zone established as part of a foreign trade zone project with a limited purpose that cannot be accommodated within an existing zone. Subzones are often established to serve the needs of a specific company and may be located within an existing facility of the company.

Tariff Schedule. A comprehensive list or schedule of goods with applicable duty rates to be paid or charged for each listed article as it enters or leaves a country.

Transportation Reference Number. A reservation number assigned by the carrier to hold space on the carrier for cargo being shipped. It is the booking number for vessel shipments and the master air waybill number for air shipments.

U.S. Principal Party In Interest (USPPI). The person or legal entity in the United States that receives the primary benefit, monetary or otherwise, of the export transaction. Generally, that person or entity is the U.S. seller, manufacturer, or order party, or the foreign entity while in the United States when purchasing or obtaining the goods for export.

Ultimate Consignee. The person located abroad who is the true principal party in interest, receiving the export or reexport for the designated end use. (See also End-User.)

Unlading. The physical removal of cargo from an aircraft, truck or vessel.

Vehicle Identification Number (VIN). A number used for the identification of a self-propelled vehicle.

Verify Message. A notice sent to the filer by the AES when an unlikely condition is found. The data may or may not be correct, and the filer is required to transmit a correction, if warranted, within four calendar days.

Warning Message. A notice sent to the filer by the AES when certain incomplete and conflicting data reporting conditions are encountered. AES accepts the information filed to facilitate the trade. The filer is required to transmit a correction to the commodity data within four calendar days. If left uncorrected, AES will periodically generate and transmit a “warning reminder” message back to the filer until the data have been corrected.

Wholesaler/Distributor. An agent who sells directly for a supplier and maintains an inventory of the supplier's products.

Written Authorization. A written consent by the USPPI or FPPI stating that the agent has authority to act as its true and lawful agent for purposes of preparing and filing the EEI in accordance with the laws and regulations of the United States.

Zone Admission Number. A unique and sequential number assigned by a FTZ operator or user to shipments admitted to a zone.

§ 30.2 General requirements for filing Electronic Export Information.

(a) Filing requirements—(1) The AES is the electronic system for collecting SED (or any successor document) information from persons exporting goods from the United States, Puerto Rico, Foreign Trade Zones (FTZs) located in the United States or Puerto Rico, the U.S. Virgin Islands, between Puerto Rico and the United States, and to the U.S. Virgin Islands from the United States or Puerto Rico. References to the AES also shall apply to AESDirect unless otherwise specified. For purposes of the regulations in this part, SED information shall be referred to as Electronic Export Information (EEI). Electronic Export Information shall be filed through the AES by the U.S. principal party in interest (USPPI), the USPPI's authorized agent, or the authorized U.S. agent of the foreign principal party in interest (FPPI) for exports of physical goods, including shipments moving pursuant to orders received over the Internet. Exceptions, exclusions, and exemptions to this requirement are provided for in paragraphs (a)(1)(iv) and (d) of this section and subpart D of this part. Filing through the AES shall be done in accordance with the definitions, specifications, and requirements of the regulations in this part for all export shipments, except as specifically excluded in § 30.2(d) or exempted in subpart D, when shipped as follows:

(i) To foreign countries or areas, including free (foreign trade) zones located therein (see § 30.36 for exemptions for shipments from the United States to Canada), from any of the following:

(A) The United States, including the 50 states and the District of Columbia.

(B) Puerto Rico.

(C) FTZs located in the United States or Puerto Rico.

(D) The U.S. Virgin Islands.

(ii) Between any of the following non-foreign areas:

(A) To Puerto Rico from the United States.

(B) To the United States from Puerto Rico.

(C) To the U.S. Virgin Islands from the United States or Puerto Rico.

(iii) Electronic export information shall be filed for goods moving as described in paragraphs (a)(1)(i) and (ii) of this section by any mode of transportation. (Instructions for filing EEI for vessels, aircraft, railway cars, and other carriers when sold while outside the areas described in paragraphs (a)(1)(i) and (ii) are covered in § 30.26.)

(iv) Notwithstanding exemptions in subpart D, EEI shall be filed for the following types of export shipments, regardless of value:

(A) Destined for countries subject to the Department of Treasury export licensing under the Office of Foreign Assets Control (OFAC) regulations (31 CFR parts 500 through 599).

(B) Requiring a Department of Commerce, Bureau of Industry and Security (BIS) license (15 CFR parts 730 through 774).

(C) Requiring a Department of State, Directorate of Defense Trade

Controls (DDTC) export license under the International Traffic in Arms Regulations (ITAR) (22 CFR parts 120 through 130).

(D) Subject to the ITAR but exempt from license requirements.

(E) Requiring a Department of Justice, Drug Enforcement Administration (DEA) export permit (21 CFR part 1312).

(F) Requiring an export license issued by any other federal government agency.

(G) Classified as rough diamonds under 6-digit Harmonized System subheadings 7102.10, 7102.21, and 7102.31.

(2) Filing methods. The USPPI has four optional means for filing EEI: use AESDirect; develop AES software using the AESTIR; purchase software developed by certified vendors using the AESTIR; or use an authorized agent.

(b) General requirements—(1) Electronic Export Information shall be filed prior to exportation unless the USPPI has been authorized to submit export data on a postdeparture basis (See § 30.5(c)). Shipments requiring a license or license exemption may be filed postdeparture only when the appropriate licensing agency has granted the USPPI authorization.

(2) Specific data elements required for EEI filing are contained in § 30.6.

(3) The AES downtime procedures provide uniform instructions for processing export transactions when the AES, AESDirect or the computer system of an AES participant is unavailable for transmission. (See § 30.4(b)(1) and § 30.4(b)(3).)

(4) Instructions for particular types of transactions and exemptions from these requirements are found in subparts C and D of this part.

(5) Electronic Export Information is required to be presented to CBP prior to export for commodities being exported by vessel going directly to the countries identified in 19 CFR 4.75(c) and by aircraft going directly or indirectly to those countries (See 19 CFR 122.74(b)(2)).

(c) Certification and filing requirements. Filers of EEI shall be required to meet application, certification, and filing requirements before being approved to submit export data through the AES or AESDirect. Steps leading toward approval for the AES or the AESDirect filing include the following processes: (See § 30.5 for specific application, certification, and filing standards applicable to AES and AESDirect submissions.)

(1) Submission of a Letter of Intent for AES filing or submission of an online registration for filing through AESDirect.

(2) Successful completion of certification testing for AES or for AESDirect filing.

(d) Exclusions from filing EEI. The following types of transactions are outside the scope of this part and shall be excluded from EEI filing:

(1) Goods shipped under CBP bond through the United States, Puerto Rico, or the U.S. Virgin Islands from one foreign country or area to another where such goods do not enter the consumption channels of the United States. Shipments under CBP bond leaving the United States by vessel may require the filing of Form 7513, Shipper's Export Declaration for In-transit Goods.

(2) Goods shipped from the U.S. possessions of Guam Island, American Samoa, Wake Island, Midway Island, Northern Mariana Islands, and Canton and Enderbury Islands to foreign countries or areas, and goods shipped between the United States and these possessions when an export license or license exemption is not required. As per this section, EEI is required for shipments between the United States and Puerto Rico, or from the United States or Puerto Rico to the U.S. Virgin Islands. (See subpart B of this part for filing requirements for export control purposes.)

(3) Electronic transmissions and intangible transfers. (See subpart B for export control requirements for these types of transactions.)

(4) Goods shipped to Guantanamo Bay Naval Base in Cuba from the United States, Puerto Rico, or the U.S. Virgin Islands and from Guantanamo Bay Naval Base to the United States, Puerto Rico, or the U.S. Virgin Islands. (See § 30.39 for filing requirements for shipments exported by the U.S. armed services.)

(e) Penalties. Failure of the USPPI, the authorized agent of either the USPPI or the FPPI, the exporting carrier, or any other person subject thereto to comply with any of the requirements of the regulations in this part renders such persons subject to the penalties provided for in subpart H of this part.

§ 30.3 Electronic Export Information filer requirements, parties to export transactions, and responsibilities of parties to export transactions.

(a) General requirements. The filer of EEI for export transactions is either the USPPI, its authorized agent, or the authorized U.S. agent of the FPPI. Export data provided to the AES shall be complete, correct, and based on personal knowledge of the facts stated or on information furnished by the parties to the export transaction. The filer shall be physically located in the United States at the time of filing, have an Employer Identification Number (EIN) or social security number (SSN), and be certified to report in the AES. The filer is responsible for the truth, accuracy, and completeness of the EEI, except insofar as that party can demonstrate that he or she reasonably relied on information furnished by other responsible persons participating in the transaction. All parties involved in export transactions, including U.S. authorized agents, should be aware that invoices and other commercial documents may not necessarily contain all the information needed to prepare the EEI. The parties shall ensure that all information needed for reporting to the AES, including correct export licensing information, is provided to the authorized agent for the purpose of correctly preparing the EEI.

(b) Parties to the export transaction—(1) Principal parties in interest. Those persons in a transaction that receive the primary benefit, monetary or otherwise, are considered principal parties to the transaction. Generally, the principals in a transaction are the seller and buyer.

(2) USPPI. For purposes of filing EEI, the USPPI is the person or legal entity in the United States that receives the primary benefit, monetary or otherwise, from the transaction. Generally, that person or entity is the U.S. seller, manufacturer, order party, or foreign entity purchasing or obtaining goods for export. The foreign entity shall be listed as the USPPI if it is in the United States when the items are purchased or obtained for export. The foreign entity shall then follow the provisions for filing the EEI specified in § 30.3 and § 30.6 pertaining to the USPPI.

(i) If a U.S. manufacturer sells goods directly to an entity in a foreign area, the U.S. manufacturer shall be listed as the USPPI in the EEI.

(ii) If a U.S. manufacturer sells goods, as a domestic sale, to a U.S. buyer (wholesaler/distributor) and that U.S. buyer sells the goods for export to a FPPI, the U.S. buyer (wholesaler/distributor) shall be listed as the USPPI in the EEI.

(iii) If a U.S. order party directly arranges for the sale and export of goods to a foreign entity, the U.S. order party shall be listed as the USPPI in the EEI.

(iv) If goods are temporarily imported into the United States for reexport within one year (e.g., carnets), the authorized agent entering the goods may be listed as the USPPI in the EEI.

(v) If a customs broker is listed as the importer of record when entering goods into the United States for immediate consumption or warehousing entry, the customs broker may be listed as the USPPI in the EEI if the goods are subsequently exported without change or enhancement.

(3) Authorized agent. The agent shall be authorized by the USPPI or, in the case of a routed export transaction, the FPPI to prepare and file the EEI. In a routed export transaction, the authorized agent can be the “exporter” for export control purposes as defined in 15 CFR 772.1 of the U.S. Department of Commerce Export Administration Regulations (EAR). However, the authorized agent shall not be shown as the USPPI in the EEI unless the agent acts as a USPPI in the export transaction as defined in paragraphs (b)(2)(iii), (iv), and (v) of this section.

(c) General responsibilities of parties in export transactions—(1) USPPI responsibilities. (i) The USPPI can prepare and file the EEI itself, or it can authorize an agent to prepare and file the EEI on its behalf. If the USPPI prepares the EEI itself, the USPPI is responsible for the accuracy and timely transmission of all the export information reported to the AES.

(ii) When the USPPI authorizes an agent to file the EEI on its behalf, the USPPI is responsible for:

(A) Providing the authorized agent with accurate export information necessary to file the EEI.

(B) Providing the authorized agent with a power of attorney or written authorization to file the EEI (see paragraph (f) of this section for written authorization requirements for agents).

(C) Maintaining documentation to support the information provided to the authorized agent for filing the EEI, as specified in § 30.10.

(2) Authorized agent responsibilities. The agent, when authorized by a USPPI to prepare and file the EEI for an export transaction, is responsible for performing the following activities:

(i) Accurately preparing and filing the EEI based on information received from the USPPI and other parties involved in the transaction.

(ii) Obtaining a power of attorney or written authorization to complete the EEI.

(iii) Maintaining documentation to support the information reported to the AES, as specified in § 30.10.

(iv) Upon request, providing the USPPI with a copy of the export information filed in the manner prescribed by the USPPI.

(d) Filer responsibilities. Responsibilities of USPPIs and authorized agents filing EEI are as follows:

(1) Transmitting complete and accurate information (see § 30.4 for a delineation of filing responsibilities of USPPIs and authorized agents).

(2) Transmitting information in a timely manner in accordance with the provisions and requirements contained in this part.

(3) Responding to fatal errors, warning, verify and reminder messages, and compliance alerts generated by the AES in accordance with provisions and requirements contained in this part.

(4) Providing the exporting carrier with the required proof of filing citations or exemption legends in accordance with provisions contained in this part.

(5) Promptly transmitting corrections or cancellations to EEI in accordance with provisions contained in § 30.9.

(6) Maintaining all necessary and proper documentation related to EEI transactions in accordance with provisions contained in this part (see § 30.10 for specific requirements for maintaining and producing documentation for export shipments).

(e) Responsibilities of parties in a routed export transaction. The Census Bureau recognizes “routed export transactions” as a subset of export transactions. A routed export transaction is one in which the FPPI authorizes a U.S. agent to facilitate the export of items from the United States and to prepare and file EEI.

(1) USPPI responsibilities. In a routed export transaction, the FPPI may authorize or agree to allow the USPPI to prepare and file the EEI or authorize an agent to file the EEI on its behalf. If the USPPI prepares and files the EEI, it shall maintain documentation to support the EEI filed. If the FPPI authorizes an agent to prepare and file the EEI, the USPPI shall maintain documentation to support the information provided to the agent for preparing the EEI as specified in § 30.10 and provide the agent with the following information to assist in preparing the EEI:

(i) Name and address of the USPPI.

(ii) USPPI's EIN or SSN.

(iii) Point of origin (State or FTZ).

(iv) Commercial description of commodities.

(v) Origin of goods indicator: Domestic (D) or foreign (F).

(vi) Schedule B/Harmonized Tariff Schedule (HTS) Classification Commodity Code.

(vii) Quantity/unit of measure.

(viii) Value.

(ix) Upon request from the FPPI or its agent, the Export Control Classification Number (ECCN) or sufficient technical information to determine the ECCN.

(x) All licensing information necessary to file the EEI for commodities where the Department of State, the Department of Commerce, or other U.S. Government agency issues a license for the commodities being exported, or the merchandise is being exported under a license exemption.

(xi) Any information that it knows will affect the determination of license authorization (see subpart B of this part for additional information on licensing requirements).

(2) Authorized agent responsibilities. In a routed export transaction, the authorized agent is responsible for obtaining a power of attorney or written authorization from the FPPI to prepare and file the EEI on its behalf; preparing and filing the EEI based on information obtained from the USPPI or other parties involved in the transaction; maintaining documentation to support the EEI reported to the AES; and upon request by the USPPI, verifying that the information provided by the USPPI was accurately reported to the AES. The authorized agent also shall provide the following export information to the AES:

(i) Date of export.

(ii) Transportation Reference Number.

(iii) Ultimate consignee.

(iv) Intermediate consignee, if applicable.

(v) Authorized agent name and address.

(vi) EIN, SSN or DUNS number of the authorized agent.

(vii) Country of ultimate destination.

(viii) Mode of transportation.

(ix) Carrier identification and conveyance name.

(x) Port of export.

(xi) Foreign port of unloading.

(xii) Shipping weight.

(xiii) ECCN.

(xiv) License or license exemption information.

(f) Authorizing an agent. In a power of attorney or other written authorization, authority is conferred upon an agent to perform certain specified acts or kinds of acts on behalf of a principal (see 15 CFR 758.1(h)). In cases where an authorized agent is filing EEI to the AES, the agent shall obtain a power of attorney or written authorization from a principal party in interest to file the information on its behalf. A power of attorney or written authorization should specify the responsibilities of the parties with particularity and should state that the agent has authority to act on behalf of a principal party in interest as its true and lawful agent for purposes of creating and filing EEI in accordance with the laws and regulations of the United States.

§ 30.4 Electronic Export Information filing procedures, deadlines, and certification statements.

Two electronic filing options (predeparture and postdeparture) for transmitting EEI are available to the USPPI or authorized agent. The electronic postdeparture filing takes into account that complete information concerning export shipments may not always be available prior to exportation and accommodates these circumstances by providing, when authorized, for filing of EEI after departure. For example, for exports of seasonal and agricultural commodities, only estimated quantities, values, and consignees may be known prior to exportation. The procedures for obtaining certification as an AES filer and for applying for authorization to file on a postdeparture basis are described in § 30.5.

(a) EEI transmitted predeparture. The EEI shall always be transmitted prior to departure to AES for the following types of shipments:

(1) Used self-propelled vehicles (except those shipped between the United States and Puerto Rico) as defined in 19 CFR 192.1;

(2) Essential and precursor chemicals requiring a permit from the DEA;

(3) Shipments defined as “sensitive” by Executive Order;

(4) Shipments where a U.S. Government agency requires predeparture filing;

(5) Shipments defined as “routed export transactions” (see § 30.1(c) for a list of definitions that apply to this part);

(6) Shipments to countries where complete outbound manifests are required prior to clearing vessels or aircraft for export (see 19 CFR 4.75(c) and 122.74(b)(2) for a listing of these countries);

(7) Items identified on the U.S. Munitions List (USML) of the ITAR (22 CFR part 121);

(8) Exports that require a license from the BIS, unless the BIS has approved postdeparture filing privileges for the USPPI;

(9) Shipments of rough diamonds classified under Harmonized System subheadings 7102.10, 7102.21, and 7102.31 and exported (reexported) in accordance with the Kimberley Process; and

(10) Shipments for which the USPPI has not been approved for postdeparture filing.

(b) Filing deadlines for EEI transmitted predeparture. The USPPI or the authorized agent shall file the required EEI and have received the AES Internal Transaction Number (ITN) no later than the time period specified as follows:

(1) For State Department USML shipments, refer to the ITAR (22 CFR parts 120 through 130) for specific requirements concerning predeparture filing time frames. In addition, if a filer is unable to acquire an ITN because AES is not operating, the filer shall not export until AES is operating and an ITN is acquired.

(2) For non-USML shipments, file the EEI and transmit the ITN as follows:

(i) For vessel cargo, the USPPI or the authorized agent shall file the EEI required by § 30.6 and provide the AES ITN to the exporting carrier no later than 24 hours prior to the departure of the vessel from the U.S. port where the cargo is laden.

(ii) For air cargo, including cargo being transported by Air Express Couriers, the USPPI or the authorized agent shall file the EEI required by § 30.6 and provide the AES ITN to the exporting carrier no later than two (2) hours prior to the scheduled departure time of the aircraft.

(iii) For truck cargo, including cargo departing by Express Consignment Couriers, the USPPI or the authorized agent shall file the EEI required by § 30.6 and provide the AES ITN to the exporting carrier no later than one (1) hour prior to the arrival of the truck at the United States border to go foreign.

(iv) For rail cargo, the USPPI or the authorized agent shall file the EEI required by § 30.6 and provide the AES ITN to the exporting carrier no later than two (2) hours prior to the time the train arrives at the U.S. border to go foreign.

(v) For mail and cargo shipped by other methods, except pipeline, the USPPI or the authorized agent shall file the EEI required by § 30.6 and provide the AES ITN to the exporting carrier no later than two (2) hours prior to exportation. (See § 30.4(d) for filing deadlines for shipments sent by pipeline.)

(vi) For all other modes, the USPPI or the authorized agent shall file the required EEI no later than two (2) hours prior to exportation.

(3) For non-USML shipments when the AES is unavailable, use the following instructions:

(i) If the participant's AES is unavailable, the filer must delay the export of the goods or find an alternative filing method;

(ii) If AES or AESDirect is unavailable, the goods may be exported and the filer must:

(A) Provide the appropriate proof of filing citation as described in § 30.7(b)(4); and

(B) Report the EEI at the first opportunity AES is available.

(c) EEI transmitted postdeparture. Postdeparture filing is only available for approved USPPIs and provides for the electronic filing of the data elements required by § 30.6 no later than ten (10) calendar days from the date of exportation. For USPPIs approved for postdeparture filing, all shipments (other than those for which predeparture filing is specifically required), by all methods of transportation, may be exported with the filing of EEI made postdeparture. Certified AES authorized agents or service centers may transmit information postdeparture on behalf of USPPIs approved for postdeparture filing, or the approved USPPI may transmit the data postdeparture itself. However, authorized agents or service centers will not be approved for postdeparture filing.

(d) Pipeline. The operator of a pipeline may transport goods to a foreign country without the prior filing of the proof of filing citation, on the condition that within four (4) days following the end of each calendar month the operator shall file on the AES and will deliver to the CBP Port Director the proof of filing citation covering all exportations through the pipeline to each consignee during the month.

(e) Proof of filing citation or exemption legend. The USPPI or the authorized agent shall provide the exporting carrier with the AES proof of filing citation or exemption legend as described in § 30.7.

§ 30.5 Electronic Export Information filing application and certification processes and standards.

Prior to filing EEI, the USPPI or the authorized agent shall be certified to file on the AES. A service center shall be certified to transmit electronically to the AES. The USPPI, authorized agent, or service center may use a software package designed by a certified vendor to file EEI to the AES. Once an authorized agent has successfully completed the certification process, any USPPI using that agent does not have to be certified. The certified authorized agent shall have a properly executed power of attorney, a written authorization from the USPPI or FPPI, and be domiciled in the United States to file EEI to the AES. The USPPI or authorized agent that utilizes a certified software vender or service center shall complete certification testing. Service centers may only transmit export information; they may not prepare and file export information unless they have authorization from the USPPI in the form of a power of attorney or written authorization, thus making them authorized agents. The USPPI seeking approval for postdeparture filing privileges shall be approved before they or their authorized agent may file on a postdeparture basis.

(a) AES application process—(1) AES Letter of Intent. The first requirement for all participation in AES, including approval for postdeparture filing privileges, is to submit a complete and accurate Letter of Intent to the Census Bureau. The Letter of Intent is a written statement of a company's desire to participate in AES. It shall set forth a commitment to develop, maintain, and adhere to CBP and Census Bureau performance requirements and operations standards. The format and content for the Letter of Intent are provided in Appendix A of this part.

(2) AESDirect registration. U.S. principal parties in interest desiring to file though AESDirect shall complete the online AESDirect registration form in lieu of the AES Letter of Intent. After submitting the registration, an AESDirect filing account is created for the filing company. The person designated as the account administrator is responsible for activating the account and completing the certification process as discussed in paragraph (b)(2) of this section.

(b) Certification process—(1) AES certification process. The USPPI shall perform an initial two-part communication test to ascertain whether its system is capable of both transmitting data to, and receiving data from, the AES. The USPPI shall demonstrate specific system application capabilities. The capability to correctly handle these system applications is the prerequisite to certification for participation in the AES. The USPPI shall successfully transmit the AES certification test. The CBP's and/or Census Bureau's client representatives provide assistance during certification testing. These representatives make the sole determination as to whether or not the USPPI qualifies for certification. Upon successful completion of certification testing, the USPPI's status is moved from testing mode to operational status. Automated Export System filers may be required to repeat the certification testing process at any time. The Census Bureau will provide the AES filer with a certification notice after the USPPI has been approved for operational status. The certification notice will include:

(i) The date that filers may begin transmitting data;

(ii) Reporting instructions; and

(iii) Examples of the required AES proof of filing citations, postdeparture filing citations, AES downtime filing citation, and exemption legends.

(2) AESDirect certification process. To become certified for AESDirect, filers shall demonstrate knowledge of this part and the ability to successfully transmit EEI. Upon successful completion of the certification testing, notification by e-mail will be sent to the account administrator when an account is fully activated for filing via AESDirect. Certified filers should print and retain the page congratulating the filer on passing the test.

(c) Postdeparture filing approval process. The USPPI may apply for postdeparture filing privileges by submitting a Letter of Intent to the Census Bureau in accordance with the provisions contained in § 30.4 (see Appendix A of this part for the content and format of the Letter of Intent). An authorized agent may not apply on behalf of a USPPI. The Census Bureau will distribute the Letter of Intent for postdeparture filing privileges to CBP and the other Federal Government partnership agencies participating in the AES postdeparture filing review process. Failure to meet the standards of the Census Bureau, CBP or any of the partnership agencies is reason for denial of the applicant for postdeparture filing privileges. Each partnership agency will develop its own internal postdeparture filing acceptance standards, and each agency will notify the Census Bureau of the USPPI's success or failure to meet that agency's acceptance standards. Any partnership agency may require additional information from USPPIs that are applying for postdeparture filing. The Census Bureau will notify the USPPI of the decision to either deny or approve their application for postdeparture filing privileges within thirty (30) calendar days of receipt of the Letter of Intent by the Census Bureau, or if a decision cannot be reached at that time, the USPPI will be notified of an extension for a final decision as soon as possible after the thirty (30) calendar days.

(1) Grounds for denial of postdeparture filing status. The Census Bureau may deny a USPPI's application for postdeparture filing privileges for any of the following reasons:

(i) The USPPI has not demonstrated experience in filing or authorizing the filing of information electronically through the AES.

(ii) The USPPI's volume of EEI reported through the AES does not warrant participation in postdeparture filing.

(iii) The USPPI is not an established USPPI with regular operations.

(iv) The USPPI has consistently failed to submit EEI to the AES in a timely and accurate manner.

(v) The USPPI has a history of noncompliance with Census Bureau export regulations contained in this part.

(vi) The USPPI has been indicted, convicted, or is currently under investigation for a felony involving a violation of federal export laws or regulations and the Census Bureau has evidence of probable cause supporting such violation, or the USPPI is in violation of Census Bureau export regulations contained in this part.

(vii) The USPPI has made or caused to be made in the Letter of Intent a false or misleading statement or omission with respect to any material fact.

(viii) The USPPI would pose a significant threat to national security interests such that its participation in postdeparture filing should be denied.

(ix) The USPPI has multiple violations of either the Export Administration Regulations (EAR) (15 CFR parts 730 through 774) or the International Traffic in Arms Regulations (ITAR)(22 CFR parts 120 through 130) within the last three (3) years.

(2) Notice of denial. A USPPI denied postdeparture filing privileges by other agencies shall contact those agencies regarding the specific reason(s) for non-selection and for their appeal procedures. A USPPI denied postdeparture filing status by the Census Bureau will be provided with a specific reason for non-selection and a Census Bureau point of contact in an electronic notification letter. A USPPI may appeal the Census Bureau's non-selection decision by following the appeal procedure and re-application procedure provided in paragraph (c)(5) of this section.

(3) Revocation of postdeparture filing privileges—(i) Revocation by the Census Bureau. The Census Bureau may revoke postdeparture filing privileges of an approved USPPI for the following reasons:

(A) The USPPI's volume of EEI reported in the AES does not warrant continued participation in postdeparture filing.

(B) The USPPI or its authorized agent has failed to submit EEI to the AES in a timely and accurate manner;

(C) The USPPI has made or caused to be made in the Letter of Intent a false or misleading statement or omission with respect to material fact;

(D) The USPPI submitting the Letter of Intent has been indicted, convicted, or is currently under investigation for a felony involving a violation of federal export laws or regulations and the Census Bureau has evidence of probable cause supporting such violation, or the applicant is in violation of Census Bureau export rules and regulations contained in this part;

(E) The USPPI has failed to comply with existing Census Bureau or other agency export regulations or has failed to pay any outstanding penalties assessed in connection with such noncompliance; or

(F) The USPPI would pose a significant threat to national security interests such that its continued participation in postdeparture filing should be terminated.

(ii) Revocation by other agencies. Any of the other agencies may revoke a USPPI's postdeparture filing privileges with respect to transactions subject to the jurisdiction of that agency. When doing so, the agency shall notify both the Census Bureau and the USPPI whose authorization is being revoked.

(4) Notice of revocation. Approved postdeparture filing USPPIs whose postdeparture filing privileges have been revoked by other agencies shall contact those agencies for their specific revocation and appeal procedures. When the Census Bureau makes a determination to revoke an approved USPPI's postdeparture filing privileges, the USPPI will be notified electronically of the reason(s) for the decision. In most cases, the revocation shall become effective when the USPPI has either exhausted all appeal procedures, or thirty (30) calendar days after receipt of the notice of revocation, if no appeal is filed. However, in cases judged to affect national security, revocations shall become effective immediately upon notification.

(5) Appeal procedure. Any USPPI whose request for postdeparture filing privileges has been denied by the Census Bureau or whose postdeparture filing privileges have been revoked by the Census Bureau may appeal the decision by filing an appeal within thirty (30) calendar days of receipt of the notice of decision. Appeals should be addressed to the Chief, Foreign Trade Division, U.S. Census Bureau, Washington, DC 20233. The Census Bureau will issue a written decision to the USPPI within thirty (30) calendar days from the date of receipt of the appeal by the Census Bureau. If a written decision is not issued within thirty (30) calendar days, the Census Bureau will forward to the USPPI a notice of extension within that time period. The USPPI will be provided with the reasons for the extension of this time period and an expected date of decision. Approved postdeparture filing USPPIs who have had their postdeparture filing status revoked may not reapply for this privilege for one year following written notification of the revocation.

(d) Electronic Export Information filing standards. The data elements required for filing EEI are contained in § 30.6. When filing EEI, the USPPI or authorized agent shall comply with the data transmission procedures determined by CBP and the Census Bureau and shall agree to stay in complete compliance with all export rules and regulations in this part. Failure of the USPPI or the authorized agent of either the USPPI or FPPI to comply with these requirements constitutes a violation of the regulations in this part, and renders such principal party or the authorized agent subject to the penalties provided for in subpart H of this part. In the case of AESDirect, when submitting a registration form to AESDirect, the registering company is certifying that it will be in compliance with all applicable export rules and regulations. This includes complying with the following security requirements:

(1) AESDirect user names, administrator codes, and passwords are to be kept secure by the account administrator and not disclosed to any unauthorized user or any persons outside the registered company. Filers shall change administrator codes or passwords for security purposes when employees leave the company. The administrator shall change the password when any person with access leaves the company.

(2) Registered companies are responsible for those persons having access to the user name, administrator code, and password. If an employee with access to the user name, administrator code, and password leaves the company or otherwise is no longer an authorized user, the company shall immediately change the password, administrator code, and user name in the system to ensure the integrity and confidentiality of Title 13 data.

(3) Antivirus software shall be installed and set to run automatically on all computers that access AESDirect. All AESDirect registered companies will maintain subscriptions with their antivirus software vendor to keep antivirus lists current. Registered companies are responsible for performing full scans of these systems on a regular basis, but not less than every 30 days, to ensure the elimination of any virus contamination. If the registered company's computer system is infected with a virus, the company shall contact the Census Bureau's Foreign Trade Division Computer Security Officer and refrain from using AESDirect until it is virus free. Failure to comply with these requirements will result in immediate loss of privilege to use AESDirect until the registered company can establish to the satisfaction of the Census Bureau's Foreign Trade Division Computer Security Officer that the company's computer systems accessing AESDirect are virus free.

(e) Monitoring the filing of EEI. The USPPI's or the authorized agent's AES filings will be monitored and reviewed for quality, timeliness, and coverage. The Census Bureau will provide performance reports to USPPIs and authorized agents who file EEI. The Census Bureau will take appropriate action to correct specific situations where the USPPI or authorized agent fails to maintain acceptable levels of data quality, timeliness, or coverage.

(f) Support. The Census Bureau provides online services that allow the USPPI and the authorized agent to seek assistance pertaining to AES and this part. For AES assistance, filers may send an e-mail to ASKAES@census.gov, and for regulatory assistance, filers may send an e-mail to FTDREGS@census.gov. AESDirect is supported by a help desk available twelve (12) hours a day from 7 a.m. to 7 p.m. EST, seven (7) days a week. Filers can obtain contact information from the Web site http://www.aesdirect.gov.

§ 30.6 Electronic Export Information data elements.

The information specified in this section is required for shipments transmitted to the AES. The data elements identified as “mandatory” shall be reported for each transaction. The data elements identified as “conditional” shall be reported if they are required for or apply to the specific shipment. The data elements identified as “optional” may be reported at the discretion of the USPPI or the authorized agent.

(a) Mandatory data elements are as follows:

(1) USPPI and USPPI identification. The name, address, identification, and contact information of the USPPI shall be reported to the AES as follows:

(i) Name of the USPPI. In all export transactions, the name listed in the USPPI field in the EEI shall be the USPPI in the transaction. (See § 30.1 for the definition of the USPPI and § 30.3 for details on the USPPI's reporting responsibilities.)

(ii) Address of the USPPI. In all EEI filings, the USPPI shall report the address or location (no post office box number) from which the goods actually begin the journey to the port of export. For example, EEI covering goods laden aboard a truck at a warehouse in Georgia for transport to Florida for loading onto a vessel for export to a foreign country shall show the address of the warehouse in Georgia. If the USPPI does not have a facility (processing plant, warehouse, distribution center, or retail outlet, etc., whether owned or leased) at the location from which the goods began their export journey, report the USPPI address from which the export was directed. For shipments with multiple origins, report the address from which the commodity with the greatest value begins its export journey or, if such information is not known at the time of filing, the address from which the export is directed.

(iii) USPPI identification number. The USPPI's EIN or SSN. The USPPI shall report its own Internal Revenue Service (IRS) EIN in the USPPI field of the EEI. If the USPPI has only one EIN, report that EIN. If the USPPI has more than one EIN, report an EIN that the USPPI also uses to report employee wages and withholdings, not an EIN used to report only company earnings or receipts. If, and only if, no IRS EIN has been assigned to the USPPI, the USPPI's own SSN shall be reported to the AES. Use of another company's EIN or another individual's SSN is prohibited. The appropriate Party ID Type code shall be reported to the AES. When a foreign entity is in the United States when the items are purchased or obtained for export, the foreign entity is the USPPI for filing purposes. In such situations, when the foreign entity does not have an EIN or SSN, it shall report in the EEI a DUNS number, border crossing number, passport number, or any number assigned by CBP.

(iv) Contact information. Show contact name and telephone number.

(2) Date of export. The date of export is the date when goods are scheduled to leave the port of export on the exporting carrier that is taking the goods out of the United States.

(3) Ultimate consignee. The ultimate consignee is the person, party, or designee that is located abroad and actually receives the export shipment. The name and address of the ultimate consignee, whether by sale in the United States or abroad or by consignment, shall be reported in the EEI. The ultimate consignee as known at the time of export shall be reported. For shipments requiring an export license, the ultimate consignee shall be the person so designated on the export license or authorized to be the ultimate consignee under the applicable license exemption in conformance with the EAR or ITAR, as applicable. For goods sold en route, report the appropriate “To be Sold En Route” indicator in the EEI, and report corrected information as soon as it is known (see § 30.9 for procedures on correcting AES information).

(4) U.S. state of origin. The U.S. state of origin is the 2-character postal code for the state in which the goods begin their journey to the port of export. For example, a shipment covering goods laden aboard a truck at a warehouse in Georgia for transport to Florida for loading onto a vessel for export to a foreign country shall show Georgia as the state of origin. The U.S. state of origin may be different from the U.S. state where the goods were produced, mined, or grown, or where the USPPI is located. For shipments of multi-state origin, reported as a single shipment, report the U.S. state of the commodity with the greatest value. If such information is not known, report the state in which the commodities are consolidated for export.

(5) Country of ultimate destination. The country of ultimate destination is the country in which the goods are to be consumed or further processed or manufactured. The country of ultimate destination is the code issued by the International Standards Organization (ISO).

(i) Shipments under an export license or license exemption. For shipments under an export license or license exemption issued by the Department of State, DDTC, or the Department of Commerce, BIS, the country of ultimate destination shall conform to the country of ultimate destination as shown on the license. In the case of a Department of State license, the country of ultimate destination is the country specified with respect to the end user.

(ii) Shipments not moving under an export license. The country of ultimate destination is the country known to the USPPI at the time of exportation. The country to which the goods are being shipped is not the country of ultimate destination if the USPPI has knowledge at the time the goods leave the United States that they are intended for reexport or transshipment in their present form to another known country. For goods shipped to Canada, Mexico, Panama, Hong Kong, Belgium, United Arab Emirates, The Netherlands, or Singapore, for example, special care should be exercised before reporting these countries as the ultimate destination, since these are countries through which goods from the United States are frequently transshipped. If the USPPI does not know the ultimate destination of the goods, the country of destination to be shown is the last country, as known to the USPPI at the time of shipment from the United States, to which the goods are to be shipped in their present form. (For instructions as to the reporting of country of destination for vessels sold or transferred from the United States to foreign ownership, see § 30.26.)

(iii) For goods to be sold en route, report the country of the first port of call and then report corrected information as soon as it is known.

(6) Mode of transportation. The mode of transportation is the means by which the goods are exported from the United States.

(i) Conveyances exported under their own power. The mode of transportation for aircraft, vessels, or locomotives (railroad stock) transferring ownership or title and moving out of the United States under its own power is the mode of transportation by which the conveyance moves out of the United States.

(ii) Exports through Canada, Mexico, or other foreign countries for transshipment to another destination. For transshipments through Canada, Mexico, or another foreign country, the mode of transportation is the mode of the carrier transporting the goods out of the United States.

(7) Conveyance name/carrier name. The conveyance name/carrier name is the name of the conveyance/carrier transporting the goods out of the United States as known at the time of exportation. For exports by sea, the conveyance name is the vessel name. For exports by air, rail, or truck, the carrier name is that which corresponds to the carrier identification as specified in paragraph (a)(8) of this section. Terms such as airplane, train, rail, truck, vessel, barge, or international footbridge are not acceptable. For shipments by other modes of transportation, including mail or fixed modes (pipeline), the conveyance/carrier name is not required. 104

(8) Carrier identification. The carrier identification specifies the carrier that transports the goods out of the United States. The carrier transporting the goods to the port of export and the carrier transporting the goods out of the United States may be different. For transshipments through Canada, Mexico, or another foreign country, the carrier identification is that of the carrier that transports the goods out of the United States. The carrier identification is the Standard Carrier Alpha Code (SCAC) for vessel, rail, and truck shipments or the International Air Transport Association (IATA) code for air shipments. For other valid modes of transportation, including mail and fixed modes (pipeline), the carrier identification is not required. The National Motor Freight Traffic Association (NMFTA) issues and maintains the SCAC. (See http://www.nmfta.org.) The IATA issues and maintains the IATA codes. (See http://www.census.gov/trade for a list of IATA codes.)

(9) Port of export. The port of export is the seaport or airport where the goods are loaded on the exporting carrier that is taking the goods out of the United States, or the port where exports by overland transportation cross the U.S. border into foreign territory. The port of export shall be reported in terms of Schedule D, “Classification of CBP Districts and Ports.” Use port code 8000 for shipments by mail.

(i) Vessel and air exports involving several ports of exportation. For goods loaded aboard a carrier in a port of lading, where the carrier stops at several ports before clearing to the foreign country, the port of export is the first port where the goods were loaded on the exporting carrier. For goods off-loaded from the original conveyance to another conveyance (even if the aircraft or vessel belongs to the same carrier) at any of the ports, the port where the goods were loaded on the last conveyance before going foreign is the port of export.

(ii) Exports through Canada, Mexico, or other foreign countries for transshipment to another destination. For transshipments through Canada, Mexico, or another foreign country to a third country, the port of export is the location where the goods are loaded on the carrier that is taking the goods out of the United States.

(10) Related company indicator. The related company indicator shows if the USPPI and the ultimate consignee are related. A related party transaction involves trade between an affiliated USPPI and ultimate consignee in which one person or business exercises at least a 10 percent interest (voting securities) in both parties. Shipments to independent distributors are considered non-related unless there is at least 10 percent control.

(11) Domestic or foreign indicator. Indicate if the goods exported are of domestic or foreign origin. Show foreign goods separately from goods of domestic production even if the commodity classification number is the same.

(i) Domestic. Exports of domestic goods include those commodities that are the growth, produce, or manufacture of the United States, including goods exported from U.S. FTZs, Puerto Rico, or the U.S. Virgin Islands (including commodities incorporating foreign components), and those articles of foreign origin that have been enhanced in value or changed from the form in which they were originally imported by further manufacture or processing in the United States, including goods exported from U.S. FTZs, Puerto Rico, or the U.S. Virgin Islands. Identify domestic goods by the designation “D” in the EEI.

(ii) Foreign. Exports of foreign goods include those commodities that are the growth, produce, or manufacture of foreign countries that entered the United States, including goods admitted to U.S. FTZs as imports and that, at the time of exportation, have undergone no change in form or condition or enhancement in value by further manufacture in the United States, in U.S. FTZs, in Puerto Rico, or in the U.S. Virgin Islands. Identify foreign goods by the designation “F” in the EEI.

(12) Commodity classification number. Report the 10-digit commodity classification number as provided in Schedule B, Statistical Classification of Domestic and Foreign Commodities Exported from the United States in the EEI. The 10-digit commodity classification number provided in the HTS may be reported in lieu of the Schedule B commodity classification number except as noted in the headnotes of the HTS. The HTS is a global classification system used to describe most world trade in goods. Furnishing the correct Schedule B or HTS number does not relieve the USPPI or the authorized agent of furnishing, in addition, a complete and accurate commodity description. When reporting the Schedule B number or HTS number, the decimals shall be omitted. (See http://www.census.gov/trade for a list of Schedule B Classification Numbers).

(13) Commodity description. Report the description of the goods shipped in sufficient detail to permit verification of the Schedule B or HTS number. Clearly and fully state the name of the commodity in terms that can be identified or associated with the language used in Schedule B or HTS (usually the commercial name of the commodity), and any and all characteristics of the commodity that distinguish it from commodities of the same name covered by other Schedule B or HTS classifications. If the shipment requires a license, the description reported in the EEI shall conform with that shown on the license. If the shipment qualifies for a license exemption, the description shall be sufficient to ensure compliance with that license exemption. However, where the description on the license does not state all of the characteristics of the commodity that are needed to completely verify the commodity classification number, as described in this paragraph, report the missing characteristics, as well as the description shown on the license, in the commodity description field of the EEI.

(14) Primary unit of measure. The unit of measure shall correspond to the primary quantity as prescribed in the Schedule B or HTS. If neither Schedule B or HTS specifies a unit of measure for the item, an “X” is required in the unit of measure field.

(15) Primary quantity. The quantity is the total number of units that correspond to the first unit of measure specified in the Schedule B or HTS. Where the unit of measure is in terms of weight (grams, kilograms, metric tons, etc.), the quantity reflects the net weight, not including the weight of barrels, boxes, or other bulky coverings, and not including salt or pickle in the case of salted or pickled fish or meats. For a few commodities where “content grams” or “content kilograms” or some similar weight unit is specified in Schedule B or HTS, the quantity may be less than the net weight. The quantity is reported as a whole unit only, without commas or decimals. If the quantity contains a fraction of a whole unit, round fractions of one-half unit or more and fractions of less than one-half unit up or down to the nearest whole unit, respectively. (For example, where the unit for a given commodity is in terms of “tons,” a net quantity of 8.4 tons would be reported as 8 for the quantity. If the quantity is less than one unit, the quantity is 1.

(16) Shipping weight. The shipping weight is the weight in kilograms, which includes the weight of the commodity as well as the weight of normal packaging, such as boxes, crates, barrels, etc. The shipping weight is required for exports by air, vessel, rail, and truck, and required for exports of household goods transported by all modes. For exports (except household goods) by mail, fixed transport (pipeline), or other valid modes, the shipping weight is not required and shall be reported as zero. For containerized cargo in lift vans, cargo vans, or similar substantial outer containers, the weight of such containers is not included in the shipping weight. If the shipping weight is not available for each Schedule B or HTS item included in one or more containers, the approximate shipping weight for each item is estimated and reported. The total of these estimated weights equals the actual shipping weight of the entire container or containers.

(17) Value. In general, the value to be reported in the EEI shall be the value of the goods at the U.S. port of export. The value shall be the selling price as defined in this paragraph (or the cost if the goods are not sold), including inland or domestic freight, insurance, and other charges to the U.S. seaport, airport, or land border port of export. Report value to the nearest dollar; omit cents figures. Fractions of a dollar less than 50 cents should be ignored, and fractions of 50 cents or more should be rounded upward to the next dollar.

(i) Selling price. The selling price for goods exported pursuant to sale, and the value to be reported in the EEI, is the USPPI's price to the FPPI (the foreign buyer). Deduct from the selling price any unconditional discounts, but do not deduct discounts that are conditional upon a particular act or performance on the part of the foreign buyer. For goods shipped on consignment without a sale actually having been made at the time of export, the selling price to be reported in the EEI is the market value at the time of export at the U.S. port.

(ii) Adjustments. When necessary, make the following adjustments to obtain the value.

(A) Where goods are sold at a point other than the port of export, freight, insurance, and other charges required in moving the goods from their U.S. point of origin to alongside the exporting carrier at the port of export shall be added to the selling price (as defined in paragraph (a)(17)(i) of this section) for purposes of reporting the value in the EEI.

(B) Where the actual amount of freight, insurance, and other domestic costs are not available, an estimate of the domestic costs shall be made and added to the cost of the goods or selling price to derive the value to be reported in the EEI. Add the estimated domestic costs to the cost or selling price of the goods to obtain the value to be reported in the EEI.

(C) Where goods are sold at a “delivered” price to the foreign destination, the cost of loading the goods on the exporting carrier, if any, and freight, insurance, and other costs beyond the port of export shall be subtracted from the selling price for purposes of reporting value in the EEI. If the actual amount of such costs is not available, an estimate of the costs should be subtracted from the selling price.

(D) Costs added to or subtracted from the selling price in accordance with the instructions in this paragraph (a)(17)(ii) should not be shown separately in the EEI, but the value reported should be the value after making such adjustments, where required, to arrive at the value of the goods at the U.S. port of export.

(iii) Exclusions. Exclude the following from the selling price of goods exported.

(A) Commissions to be paid by the USPPI to its agent abroad or commissions to be deducted from the selling price by the USPPI's agent abroad.

(B) The cost of loading goods on the exporting carrier at the port of export.

(C) Freight, insurance, and any other charges or transportation costs beyond the port of export.

(D) Any duties, taxes, or other assessments imposed by foreign countries.

(iv) For definitions of the value to be reported in the EEI for special types of transactions where goods are not being exported pursuant to commercial sales, or where subsidies, government financing or participation, or other unusual conditions are involved, see subpart C of this part.

(18) Export information code. A code that identifies the type of export shipment or condition of the exported items (e.g., goods donated for relief or charity, impelled shipments, shipments under the Foreign Military Sales program, household goods, shipments under carnet, and all other shipments).

(19) Shipment reference number. A unique identification number assigned by the filer that allows for the identification of the shipment in the filer's system. The number must be unique for five (5) years.

(20) Line number. A number that identifies the specific commodity line item within a shipment.

(21) Hazardous material (HAZMAT) indicator. An indicator identifying the shipment as hazardous as defined by the Department of Transportation.

(22) Inbond code. The code indicating whether the shipment is being transported under bond.

(23) License code/license exemption code. The code identifies the commodity as having a Federal Government agency requirement for a license, permit, license exception or exemption or that no license is required.

(24) Routed export transaction indicator. An indicator that the FPPI has authorized, through a power of attorney or written authorization, an agent to prepare and file the EEI. See § 30.3 for responsibilities of the parties to the routed export transaction.

(25) Shipment filing action request indicator. An indicator that allows the filer to add, change, replace, or cancel an export shipment transaction.

(26) Line item filing action request indicator. An indicator that allows the filer to add, change, or delete a commodity line within an export shipment transaction.

(27) Filing option indicator. An indicator of whether the filer is reporting export information predeparture or postdeparture. Only approved USPPIs may file postdeparture. See § 30.4 for more information on EEI filing options.

(b) Conditional data elements are as follows:

(1) Authorized agent and authorized agent identification. If an authorized agent is used to prepare and file the EEI, the following information shall be provided to the AES.

(i) Name of the authorized agent. Report the name of the authorized agent. The authorized agent is that person or entity in the United States that is authorized by the USPPI or the FPPI to prepare and file the EEI or the person or entity, if any, named on the export license. (See § 30.3 for details on the specific reporting responsibilities of authorized agents and subpart B of this part for export control licensing requirements for authorized agents.)

(ii) Address of the authorized agent. Report the address or location (no post office box number) of the authorized agent. The authorized agent's address shall be reported with the initial shipment. Subsequent shipments may be identified by the agent's identification number (see paragraph (b)(1)(iii) of this section).

(iii) Authorized agent's identification number. Report the authorized agent's own EIN, SSN, or DUNS in the EEI for the first shipment and for each subsequent shipment. Use of another company's or individual's EIN or other identification number is prohibited. The type of agent identification (E=EIN, S=SSN, etc.) shall be indicated.

(iv) Contact information. Show contact name and telephone number.

(2) Intermediate consignee. The name and address of the intermediate consignee (if any) shall be reported. The intermediate consignee acts in a foreign country as an agent for the principal party in interest or the ultimate consignee for the purpose of effecting delivery of the export shipment to the ultimate consignee. The intermediate consignee is the person named as such on the export license or authorized to act as such under the applicable general license and in conformity with the Export Administration Regulations (EAR) (15 CFR parts 730 through 774).

(3) Foreign Trade Zone (FTZ) identifier. If goods are removed from the FTZ and not entered for consumption, report the FTZ identifier. This is the unique 5-digit identifier assigned by the Foreign Trade Zone Board that identifies the FTZ, sub-zone or site from which goods are withdrawn for export.

(4) Foreign port of unlading. The foreign port of unlading is the port and country where the goods are removed from the exporting carrier. The foreign port does not have to be located in the country of destination. For exports by sea to foreign countries, not including Puerto Rico, the foreign port of unlading is the code in terms of Schedule K, “Classification of Foreign Ports by Geographic Trade Area and Country.” For exports by sea or air between the United States and Puerto Rico, the foreign port of unlading is the code in terms of Schedule D, “Classification of CBP Districts and Ports.” The foreign port of unlading is not required for exports by other modes of transportation, including rail, truck, mail, fixed (pipeline), or air (unless between the U.S. and Puerto Rico).

(5) Export license number/CFR citation/authorization symbol. License number, permit number, citation, or authorization symbol assigned by the Department of Commerce, BIS; Department of State, DDTC; Department of Treasury, OFAC; Department of Justice, Drug Enforcement Administration (DEA); Nuclear Regulatory Commission (NRC); or any other federal government agency.

(6) Export Control Classification Number (ECCN). The number used to identify items on the Commerce Control List (CCL), Supplement No. 1 to Part 774 of the EAR. The five (5) position ECCN consists of a set of digits and a letter or EAR99. Section 738.2 of the EAR describes the ECCN format.

(7) Secondary unit of measure. The unit of measure is a code that corresponds to the secondary quantity as prescribed in the Schedule B or HTS. If neither Schedule B nor HTS specifies a secondary unit of measure for the item, the unit of measure is not required.

(8) Secondary quantity. The quantity is the total number of units that correspond to the secondary unit of measure, if any, specified in the Schedule B or HTS. See the definition of the primary quantity for specific instructions on reporting the quantity as a weight and whole unit, and rounding fractions.

(9) Vehicle Identification Number (VIN)/Product ID. The identification found on the reported used vehicle. For used self-propelled vehicles that do not have a VIN, the Product ID is reported. “Used” vehicle refers to any self-propelled vehicle the equitable or legal title to which has been transferred by a manufacturer, distributor, or dealer to an ultimate purchaser. See 19 CFR 192.1 for more information on exports of used vehicles.

(10) Vehicle ID qualifier. The qualifier that identifies the type of used vehicle reported. The valid codes are V for VIN and P for Product ID.

(11) Vehicle title number. The number issued by the Motor Vehicle Administration.

(12) Vehicle title state code. The 2-character postal abbreviation code for the state or territory that issued the vehicle title.

(13) Entry number. The entry number is the import entry number for a shipment transported under bond or if a FTZ or North American Free Trade Agreement (NAFTA) deferred duty claim is made. For goods imported into the United States for export to a third country of ultimate destination, where the importer of record on the entry is a foreign entity, the USPPI will be the authorized agent designated by the foreign importer for service of process. The USPPI, in this circumstance, is required to report the import entry number. This number shall not contain any imbedded slashes or dashes.

(14) Transportation reference number. The transportation reference number (TRN) is as follows:

(i) Vessel shipments. Report the booking number for vessel shipments. The booking number is the reservation number assigned by the carrier to hold space on the vessel for cargo being exported. The TRN is required for all vessel shipments.

(ii) Air shipments. Report the master air waybill number for air shipments. The air waybill number is the reservation number assigned by the carrier to hold space on the aircraft for cargo being exported. The TRN is optional for air shipments.

(iii) Rail shipments. Report the bill of lading (BL) number for rail shipments. The BL number is the reservation number assigned by the carrier to hold space on the rail car for cargo being exported. The TRN is optional for rail shipments.

(iv) Truck shipments. Report the freight or pro bill number for truck shipments. The freight or pro bill number is the number assigned by the carrier to hold space on the truck for cargo being exported. The freight or pro bill number correlates to a bill of lading number, air waybill number or trip number for multimodal shipments. The TRN is optional for truck shipments.

(15) Department of State requirements.

(i) DDTC registration number. The number assigned by DDTC to persons who are required to register per part 122 of the ITAR (22 CFR parts 120 through 130), that has an authorization (license or exemption) from DDTC to export the article.

(ii) DDTC Significant Military Equipment (SME) indicator. A term used to designate articles on the U.S. Munitions List (USML) (22 CFR part 121) for which special export controls are warranted because of their capacity for substantial military utility or capability. See § 120.7 of the ITAR (22 CFR parts 120 through 130), for a definition of SME and § 121.1 for items designated as SME articles.

(iii) DDTC eligible party certification indicator. Certification by the U.S. exporter that the exporter is an eligible party to participate in defense trade. See 22 CFR 120.1(c). This certification is required only when an exemption is claimed.

(iv) DDTC USML category code. The USML category of the article being exported (22 CFR part 121).

(v) DDTC Unit of Measure (UOM). This unit of measure is the UOM covering the article being shipped as described on the export authorization or declared under an ITAR exemption.

(vi) DDTC quantity. This quantity is for the article being shipped. The quantity is the total number of units that corresponds to the DDTC UOM code.

(vii) DDTC exemption number. The exemption number is the specific citation from the ITAR (22 CFR parts 120 through 130) that exempts the shipment from the requirements for a license or other written authorization from DDTC.

(viii) DDTC export license line number. The line number of the State Department export license that corresponds to the article being exported.

(16) Kimberley Process Certificate (KPC) number and authorization symbol. The unique identifying number of the KPC issued by the United States KPC authority that must accompany any export shipment of rough diamonds. Rough diamonds are classified under 6-digit Harmonized System subheadings 7102.10, 7102.21, and 7102.31. Enter the KPC number in the license number field excluding the 2-digit U.S. ISO country code.

(c) Optional data elements. (1) Seal number. The security seal number placed on the equipment or container.

(2) Equipment number. Report the identification number for the shipping equipment, such as container or igloo number, truck license number, or rail car number.

§ 30.7 Annotating the bill of lading, air waybill, and other commercial loading documents with the proper proof of filing citations, approved postdeparture filing citations, downtime filing citation, and exemption legends.

(a) Items identified on the U.S Munitions List (USML) (22 CFR part 121) shall meet the predeparture reporting requirements identified in the ITAR (22 CFR parts 120 through 130) for the State Department requirements concerning AES proof of filing citations, and time and place of filing.

(b) For shipments other than USML, the USPPI or the authorized agent is responsible for annotating the proper proof of filing citation or exemption legend on the first page of the bill of lading, air waybill, or other commercial loading document. The USPPI or the authorized agent must provide the proof of filing citation or exemption legend to the exporting carrier. The carrier must annotate the proof of filing citation or exemption legend on the carrier's outbound manifest when required. The carrier is responsible for presenting the appropriate exemption legend or the proof of filing citation to the CBP Port Director at the port of export as stated in subpart E of this part. Such presentation shall be without material change or amendment of the proof of filing citation, postdeparture filing citation, AES downtime filing citation, or exemption legend as provided to the carrier by the USPPI or the authorized agent. The proof of filing citation will identify that the export information has been accepted as transmitted. The postdeparture filing citation, AES downtime filing citation, or exemption legend will identify that no filing is required prior to export. The proof of filing citations, postdeparture filing citations, or exemption legends shall appear on the bill of lading, air waybill, manifest or other commercial loading documentation and shall be clearly visible and include either of the following:

(1) For shipments other than USML, the proof of filing citation shall include the statement “AES,” followed by the returned confirmation number provided by the AES when the transmission is accepted, referred to as the ITN (for example, AES ITN). Items on the USML shall meet the predeparture reporting requirements in the ITAR (22 CFR parts 120 through 130).

(2) Requirements for shipments filed postdeparture for approved USPPIs.

(i) If the USPPI files the EEI postdeparture, only the USPPI's EIN and the date of export are required in the postdeparture filing citation (e.g., AESPOST EIN (USPPI) mm/dd/yyyy).

(ii) If the authorized agent files the EEI postdeparture on behalf of an approved USPPI, the filing citation will include the statement “AESPOST,” followed by the USPPI's EIN, followed by the filer's identification number and the date of export (e.g., AESPOST EIN (USPPI)-EIN (Authorized agent) mm/dd/yyyy).

(3) Exports of rough diamonds classified under Harmonized System subheadings 7102.10, 7102.21, and 7102.31, in accordance with the Clean Diamond Act, will require the proof of filing citation, as stated in paragraph (b)(2) of this section, to be annotated on the Kimberley Process Certificate.

(4) For goods shipped pursuant to § 30.4(b)(3)(ii), the filer must provide the following downtime filing citation: “AESDOWN” followed by the filers EIN, shipment reference number, and date of export (e.g., AESDOWN EIN (filer) shipment reference number mm/dd/yyyy).

§ 30.8 Time and place for presenting proof of filing citations, postdeparture filing citations, AES downtime filing citation, and exemption legends.

The following conditions govern the time and place to present proof of filing citations, postdeparture filing citations, AES downtime filing citation, and/or exemption legends. The USPPI or the authorized agent is required to deliver the proof of filing citations, postdeparture filing citations, AES downtime filing citation, and/or exemption legends required in § 30.4(a). See § 30.7 for instructions for properly formatting the proof of filing citations, postdeparture filing citation, and AES downtime filing citation. See subpart D of this part for instructions on properly formatting exemption legends. Failure of the USPPI or the authorized agent of either the USPPI or FPPI to comply with these requirements constitutes a violation of the the regulations in this part and renders such principal party or the authorized agent subject to the penalties provided for in subpart H of this part.

(a) Postal exports. The proof of filing citations, postdeparture filing citations, AES downtime filing citation, and/or exemption legends for items being sent by mail, as required in § 30.2, shall be presented to the postmaster with the packages at the time of mailing. The postmaster is required to deliver the proof of filing citations and/or exemption legends prior to exportation.

(b) Pipeline exports. See subpart E of this part for the proof of filing citation and/or exemption legend requirements.

(c) Exports by other methods of transportation. For exports sent other than by mail or pipeline, the USPPI or the authorized agent is required to deliver the proof of filing citations, postdeparture filing citations, AES downtime filing citation, and/or exemption legends prior to exportation.

§ 30.9 Transmitting and correcting Automated Export System information.

(a) The USPPI or the authorized filing agent is responsible for electronically transmitting accurate export information as known at the time of filing in the AES and transmitting any changes to that information as soon as they are known. Corrections, cancellations, or amendments to that information shall be electronically identified and transmitted to the AES for all required fields as soon as possible after exportation. The provisions of this paragraph relating to the reporting of corrections, cancellations, or amendments to EEI, shall not be construed as a relaxation of the requirements of the rules and regulations pertaining to the preparation and filing of EEI. Failure to correct the EEI is a violation of the provisions of this part.

(b) For shipments where the USPPI or the authorized agent has received an error message from AES, the corrections shall take place as required. Failure to respond to error messages or otherwise transmit corrections to the AES constitutes a violation of the regulations in this part and renders such principal party or authorized agent subject to the penalties provided for in subpart H of this part. A fatal error message will cause the EEI to be rejected. This error shall be corrected prior to exportation of goods. For EEI that generates a warning message, the correction shall be made within four (4) calendar days of receipt of the original transmission. For EEI that generates a verify message, the correction, when warranted, shall be made within four (4) calendar days. A compliance alert indicates that the shipment was not reported in accordance with regulation. The USPPI or the authorized agent is required to review filing practices and take whatever corrective actions are required to conform with export reporting requirements.

§ 30.10 Authority to require production of documents and retaining electronic data.

(a) Authority to require production of documents. For purposes of verifying the completeness and accuracy of the information reported as required under § 30.6, and for other purposes under the regulations in this part, all parties to the export transaction (owners and operators of the exporting carriers, USPPIs, FPPIs, and/or authorized agents) shall retain documents or records pertaining to the shipment for five (5) years from the date of export. The Department of State or other regulatory agencies may have record keeping requirements for exports that exceed the retention period specified in the regulations in this part, and those requirements prevail. The CBP, Immigration and Customs Enforcement (ICE), the Census Bureau, the BIS, and other participating agencies may require that EEI, shipping documents, invoices, orders, packing lists, and correspondence, as well as any other relevant documents and any other information bearing upon a particular exportation be produced at any time within the 5-year time period for inspection or copying. These records may be retained in an elected format, including electronic or hard copy as provided for in the applicable agency's regulations. Acceptance of the documents by CBP, the Census Bureau, or the BIS does not relieve the USPPI or its authorized agent from providing complete and accurate information at a later time, if all requirements have not in fact been properly met.

(b) Retaining Electronic Export Information. Automated Export System filers shall retain a copy of their letter of intent to participate in AES and a copy of the electronic certification notice from the Census Bureau that the filer's AES account has been approved for operational status. The Letter of Intent and certification notice shall be retained for as long as the filer submits EEI through AES. Filers using AES are able to retrieve their AES filings. AESDirect and/or AESPcLink filers shall retain a copy of the electronic certification notice and print the notice indicating the filer has attained certification on AESDirect and/or AESPcLink. Filers using the AESDirect and/or AESPcLink are able to retrieve a copy of their submissions. The Census Bureau will maintain a database of EEI filed in AES to ensure that all filers can retrieve a validated record of their submissions. The USPPI or the authorized agent of the USPPI or FPPI also may request a copy of the electronic record, or submission from the Census Bureau, as provided for in subpart G of this part.

§§ 30.11-30.14 [Reserved]

Subpart B—Export Control and Licensing Requirements

§ 30.15 Introduction.

(a) For export shipments to foreign countries, the EEI is used both for statistical and for export control purposes. All parties to an export transaction must comply with all relevant export control regulations, including the requirements of the statistical regulations of this part. For convenience, references to provisions of the EAR, ITAR, CBP, and OFAC regulations that affect the statistical reporting requirements of this part have been incorporated into this part. For regulations and information concerning other agencies that exercise export control and licensing authority for particular types of commodity shipments, a USPPI or the authorized agent shall consult the appropriate agency regulations.

(b) In addition to the reporting requirements set forth in § 30.6, further information may be required for export control purposes by the regulations of CBP, BIS, State Department, or the U.S. Postal Service under particular circumstances.

(c) This part requires the retention of documents or records pertaining to a shipment for five (5) years from the date of export. All records concerning license exceptions or license exemptions shall be retained in the format (including electronic or hard copy) required by the controlling agency's regulations. For information on recordkeeping retention requirements exceeding the requirements of this part, refer to the regulations of the agency exercising export control authority for the specific shipment.

(d) In accordance with the provisions of subpart G of this part, information from the EEI is used solely for official purposes, as authorized by the Secretary of Commerce, and any unauthorized use is not permitted.

§ 30.16 Export Administration Regulations (EAR).

The EAR issued by the U.S. Department of Commerce, BIS, also contain some additional reporting requirements pertaining to EEI (see 15 CFR parts 730 through 774).

(a) The EAR require that export information be filed for shipments from U.S. Possessions to foreign countries or areas. (See 15 CFR 758.1(b) and 772.1, definition of the United States.)

(b) Requirements to place certain export control information in the EEI are found in the EAR.

§ 30.17 Customs and Border Protection regulations.

Refer to the U.S. Department of Homeland Security's CBP regulations, 19 CFR part 192, for information referencing the advanced electronic submission of cargo information on exports for targeting and inspection purposes pursuant to the Trade Act of 2002. The regulations also prohibit postdeparture filing of export information for certain shipments, and contain other regulatory provisions affecting the reporting of EEI. The CBP's regulations can be obtained from the U.S. Government Printing Office's Web site at: http://www.gpoaccess.gov.

§ 30.18 Department of State regulations.

(a) The USPPI or the authorized agent shall file export information, when required, for items on the U.S. Munitions List (USML) of the ITAR (22 CFR part 121). Information for items identified on the USML, including those exported under an export license exemption, shall be filed prior to export.

(b) Refer to the ITAR (22 CFR parts 120 through 130) for requirements regarding information required for electronically reporting export information for USML shipments, proof of filing citations, and filing time requirements.

(c) Department of State regulations can be found at: http://www.state.gov.

§ 30.19 Other Federal agency regulations.

Other Federal agencies have requirements regarding the reporting of certain types of export transactions. USPPIs and/or authorized agents are responsible for adhering to these requirements.

§§ 30.20-30.24 [Reserved]

Subpart: C—Special Provisions and Specific-Type Transactions

§ 30.25 Values for certain types of transactions.

The following special procedures govern the values to be reported for shipments of the following unusual types:

(a) Subsidized exports of agricultural products. Where provision is made for the payment to the USPPI for the exportation of agricultural commodities under a program of the Department of Agriculture, the value required to be reported for EEI is the selling price paid by the foreign buyer minus the subsidy.

(b) General Services Administration (GSA) exports of excess personal property. For exports of GSA excess personal property, the value to be shown in the EEI will be “fair market value,” plus charges when applicable, at which the property was transferred to GSA by the holding agency. These charges include packing, rehabilitation, inland freight, or drayage. The estimated “fair market value” may be zero, or it may be a percentage of the original or estimated acquisition costs. (Bill of lading, air waybill, and other commercial loading documents for such shipments will bear the notation “Excess Personal Property, GSA Regulations 1-III, 303.03.”)

§ 30.26 Reporting of vessels, aircraft, cargo vans, and other carriers and containers.

(a) Vessels, locomotives, aircraft, rail cars, ferries, trucks, other vehicles, trailers, pallets, cargo vans, lift vans, or similar shipping containers are not considered “shipped” in terms of the regulations in this part, when they are moving, either loaded or empty, without transfer of ownership or title, in their capacity as carriers of goods or as instruments of such carriers, and EEI is not required.

(b) However, EEI shall be filed for such items, when moving as goods pursuant to sale or other transfer from ownership in the United States to ownership abroad. If a vessel, car, aircraft, locomotive, rail car, vehicle, or container, whether in service or newly built or manufactured, is sold or transferred to foreign ownership while in the Customs territory of the United States or at a port in such area, EEI shall be reported in accordance with the general requirements of the regulations in this part, identifying the port through or from which the vessel, aircraft, locomotive, rail car, car, vehicle, or container first leaves the United States after sale or transfer. If the vessel, aircraft, locomotive, rail car, car, vehicle, or shipping container is outside the Customs territory of the United States at the time of sale or transfer to foreign ownership, EEI shall be reported identifying the last port of clearance or departure from the United States prior to sale or transfer. The country of destination to be shown in the EEI for vessels sold foreign is the country of new ownership. The country for which the vessel clears, or the country of registry of the vessel, should not be reported as the country of destination in the EEI unless such country is the country of new ownership.

§ 30.27 Return of exported cargo to the United States prior to reaching its final destination.

When goods reported as exported from the United States are not exported or returned without having been entered into a foreign destination, the filer shall correct or cancel the EEI.

§ 30.28 “Split shipments” by air.

When a shipment by air covered by a single EEI submission is divided by the exporting carrier at the port of export where the manifest is filed, and part of the shipment is exported on one aircraft and part on another aircraft of the same carrier, the following procedures shall apply:

(a) The carrier shall deliver the manifest to the CBP Port Director with the manifest covering the flight on which the first part of the split shipment is exported and shall make no changes to the EEI. However, the manifest shall show in the “number of packages” column the actual portion of the declared total quantity being carried and shall carry a notation to indicate “Split Shipment.” All manifests with the notation “Split Shipment” will have identical ITNs.

(b) On each subsequent manifest covering a flight on which any part of a split shipment is exported, a prominent notation “SPLIT SHIPMENT” shall be made on the manifest for identification. On the last shipment, the notation shall read “SPLIT SHIPMENT, FINAL.” Each subsequent manifest covering a part of a split shipment shall also show in the “number of packages” column only the goods carried on that particular flight and a reference to the total amount originally declared for export (for example, 5 of 11, or 5/11). Immediately following the line showing the portion of the split shipment carried on that flight, a notation will be made showing the air waybill number shown in the original EEI and the portions of the originally declared total carried on each previous flight, together with the number and date of each such previous flight (for example, air waybill 123; 1 of 2 flight 36A, June 6 SPLIT SHIPMENT; 2 of 2, flight 40X, June 6 SPLIT SHIPMENT, FINAL).

(c) Since the complete EEI was filed for the entire shipment initially, additional electronic reporting will not be required for these subsequent shipments.

§ 30.29 Reporting of repairs and replacements.

These guidelines will govern the reporting of the following:

(a) The return of goods previously imported for repair and alteration only and other returns to the foreign shipper of temporary imported goods (declared as such on importation) shall have Schedule B or HTS classification commodity number 9801.10.0000. The value reported in the EEI shall include parts and labor. The value of the original product shall not be included.

(b) Goods that are covered under warranty.

(1) Goods that are reexported after repair under warranty shall follow the procedures in paragraph (a) of this section. It is recommended that the bill of lading, air waybill, or other loading documents include the statement, “This product was repaired under warranty.”

(2) Goods that are replaced under warranty at no charge to the customer shall include the statement, “Product replaced under warranty, value for EEI purposes” on the bill of lading, air waybill, or other commercial-loading documents. Place the notation below the proof of filing citation or exemption legend on the commercial document. Report the value of the replacement part only.

§§ 30.30-30.34 [Reserved]

Subpart D—Exemptions From the Requirements for the Filing of Electronic Export Information

§ 30.35 Procedure for shipments exempt from filing requirements.

Where an exemption from the requirement for filing is provided in this subpart, a legend describing the basis for the exemption shall be made on the first page of the bill of lading, air waybill, or other commercial loading document for carrier use, or on the carrier's outbound manifest. The exemption legend shall reference the number of the section or provision in this part where the particular exemption is provided (for example, § 30.36).

§ 30.36 Exemption for shipments destined to Canada.

(a) Except as noted in § 30.2(a)(1)(iv), and in paragraph (b) of this section, shipments originating in the United States where the country of ultimate destination is Canada are exempt from the EEI reporting requirements of this part.

(b) This exemption does not apply to the following types of export shipments:

(1) Sent for storage in Canada, but ultimately destined for third countries.

(2) Exports moving from the United States through Canada to a third destination shall be reported in the same manner as for all other exports. The USPPI or authorized agent shall follow the instructions as contained in this part for preparing and filing the EEI.

(3) Requiring a Department of State, DDTC, export license under the ITAR (22 CFR parts 120 through 130).

(4) Requiring a Department of Commerce, BIS export license under EAR 15 CFR parts 730 through 774.

(5) Subject to the ITAR, but exempt from license requirements.

(6) Classified as rough diamonds under 6-digit Harmonized System subheadings 7102.10, 7102.21, and 7102.31.

§ 30.37 Miscellaneous exemptions.

Electronic Export Information is not required for the following kinds of shipments. However, the Census Bureau has the authority to periodically require the reporting of shipments that are normally exempt from filing.

(a) Except as noted in § 30.2(a)(1)(iv), exports of commodities where the value of the commodities shipped from one USPPI to one consignee on a single exporting carrier, classified under an individual Schedule B or HTS commodity classification code, is $2,500 or less. This exemption applies to individual Schedule B or HTS commodity classification codes regardless of the total shipment value. In instances where a shipment contains a mixture of individual Schedule B or HTS commodity codes valued $2,500 or less and individual Schedule B or HTS commodity classification codes valued over $2,500, only those commodity classification codes valued over $2,500 need be reported. If the filer reports multiple items of the same Schedule B or HTS code, this exception only applies if the total value of exports for the Schedule B/HTS code is $2,500 or less. This exemption does not apply to shipments requiring a license from either the Department of Commerce or the Department of State or a license exemption for commodities controlled under the USML.

(b) Tools of trade and their containers that are usual and reasonable kinds and quantities of commodities and software intended for use by individual USPPIs or by employees or representatives of the exporting company in furthering the enterprises and undertakings of the USPPI abroad. Commodities and software eligible for this exemption are those that do not require an export license or that are exported as tools of the trade under a license exception of the EAR (15 CFR 740.9(a)(2)(i) and 740.14(b)(4)), and are subject to the following provisions:

(1) Are owned by the individual USPPI or exporting company.

(2) Accompany the individual USPPI, employee, or representative of the exporting company.

(3) Are necessary and appropriate and intended for the personal and/or business use of the individual USPPI, employee, or representative of the company or business.

(4) Are not for sale.

(5) Are returned to the United States no later than one year from the date of export.

(6) Are not shipped under a bill of lading or an air waybill.

(c) Shipments from one point in the United States to another point in the United States by routes passing through Canada or Mexico.

(d) Shipments from one point in Canada or Mexico to another point in the same country by routes through the United States.

(e) Shipments, other than by vessel, of goods for which no export licenses or ITAR exemptions are required, transported in bond through the United States, and exported from another U.S. port, or transshipped and exported directly from the port of arrival. (However, where goods are shipped through the United States for export to a third country of ultimate destination, but are first entered for consumption or for warehousing in the United States, EEI shall be filed when the goods are exported from the United States.)

(f) Exports of technology and software as defined in 15 CFR part 772 of the EAR that do not require an export license are exempt from filing requirements. However, EEI is required for mass-market software. For purposes of this part, mass-market software is defined as software that is generally available to the public by being sold at retail selling points, or directly from the software developer or supplier, by means of over-the-counter transactions, mail-order transactions, telephone transactions, or electronic mail-order transactions, and designed for installation by the user without further substantial technical support by the developer or supplier.

(g) Intangible exports of software and technology, such as downloaded software and technical data, regardless of whether an export license is required, and mass-market software exported electronically.

(h) Shipments to foreign libraries, government establishments, or similar institutions, as provided in § 30.40(d).

(i) Shipments as authorized under License Exception GFT for gift parcels and humanitarian donations (see 15 CFR 740.12 of the EAR).

(j) Diplomatic pouches and their contents.

(k) Human remains and accompanying appropriate receptacles and flowers.

(l) Shipments of interplant correspondence, executed invoices and other documents, and other shipments of company business records from a U.S. firm to its subsidiary or affiliate. This excludes highly technical plans, correspondence, etc. that could be licensed.

(m) Shipments of pets as baggage, accompanied or unaccompanied, of persons leaving the United States, including members of crews on vessels and aircraft.

(n) Carriers' stores, not shipped under a bill of lading or an air waybill (including goods carried in ships aboard carriers for sale to passengers), supplies, and equipment for departing vessels, planes, or other carriers, including usual and reasonable kinds and quantities of bunker fuel, deck engine and steward department stores, provisions and supplies, medicinal and surgical supplies, food stores, slop chest articles, and saloon stores or supplies for use or consumption on board and not intended for unlading in a foreign country, and including usual and reasonable kinds and quantities of equipment and spare parts for permanent use on the carrier when necessary for proper operation of such carrier and not intended for unlading in a foreign country. Hay, straw, feed, and other appurtenances necessary to the care and feeding of livestock while en route to a foreign destination are considered part of carriers' stores of carrying vessels, trains, planes, etc.

(o) Dunnage, not shipped under a bill of lading or an air waybill, of usual and reasonable kinds and quantities necessary and appropriate to stow or secure cargo on the outgoing or any immediate return voyage of an exporting carrier, when exported solely for use as dunnage and not intended for unlading in a foreign country.

(p) Shipments of aircraft parts and equipment; food, saloon, slop chest, and related stores; and provisions and supplies for use on aircraft by a U.S. airline to its own installations, aircraft, and agents abroad, under EAR license exception (AVS) for aircraft and vessels (see 15 CFR 740.15(c)).

(q) Electronic Export Information is not required for the following types of commodities when they are not shipped as cargo under a bill of lading or an air waybill and do not require an export license, but the USPPI shall be prepared to make an oral declaration to the CBP Port Director, when required: baggage and personal effects, accompanied or unaccompanied, of persons leaving the United States, including members of crews on vessels and aircraft.

§ 30.38 Exemption from the requirements for reporting complete commodity information.

The following type of shipments will require limited reporting of EEI when goods are shipped under a bill of lading or an air waybill. In such cases, Schedule B or HTS commodity classification codes, unit of measure, and domestic/foreign indicator shall not be required.

(a) Usual and reasonable kinds and quantities of wearing apparel, articles of personal adornment, toilet articles, medicinal supplies, food, souvenirs, games, and similar personal effects and their containers.

(b) Usual and reasonable kinds and quantities of furniture, household effects, household furnishings, and their containers.

(c) Usual and reasonable kinds and quantities of vehicles, such as passenger cars, station wagons, trucks, trailers, motorcycles, bicycles, tricycles, baby carriages, strollers, and their containers provided that the above-indicated baggage, personal effects, and vehicular property: (see 19 CFR part 192 for separate CBP requirements for the exportation of used self-propelled vehicles.)

(1) Shall include only such articles as are owned by such person or members of his/her immediate family;

(2) Shall be in his possession at the time of or prior to his/her departure from the United States for the foreign country;

(3) Are necessary and appropriate for the use of such person or his/her immediate family;

(4) Are intended for his use or the use of his/her immediate family; and

(5) Are not intended for sale.

§ 30.39 Special exemptions for shipments to the U.S. armed services.

Electronic Export Information is not required for any and all commodities, whether shipped commercially or through government channels, consigned to the U.S. Armed Services for their exclusive use, including shipments to armed services exchange systems. This exemption does not apply to articles that are on the USML or controlled by the ITAR and shipments that are not consigned to the U.S. armed services but are for their ultimate use.

§ 30.40 Special exemptions for certain shipments to U.S. Government agencies and employees.

Electronic Export Information is not required for the following types of shipments to U.S. Government agencies and employees:

(a) Office furniture, office equipment, and office supplies shipped to and for the exclusive use of U.S. Government offices.

(b) Household goods and personal property shipped to and for the exclusive and personal use of U.S. Government employees.

(c) Food, medicines, and related items and other commissary supplies shipped to U.S. Government offices or employees for the exclusive use of such employees, or to U.S. Government employee cooperatives or other associations for subsequent sale or other distribution to such employees.

(d) Books, maps, charts, pamphlets, and similar articles shipped by U.S. Government offices to U.S. or foreign libraries, government establishments, or similar institutions.

§§ 30.41-30.44 [Reserved]

Subpart E—General Carrier and Manifest Requirements

§ 30.45 General statement of requirement for the filing of carrier manifests with proof of filing citations for the electronic submission of export information or exemption legends when Automated Export System filing is not required.

(a) Requirement for filing carrier manifest. Carriers transporting goods from the United States, Puerto Rico, or U.S. Possessions to foreign countries; from the United States or Puerto Rico to the U.S. Virgin Islands; or between the United States and Puerto Rico; shall not be granted clearance and shall not depart until complete manifests (for vessels, aircraft, and rail carriers) have been delivered to the CBP Port Director in accordance with all applicable requirements under CBP regulations. Each bill of lading, air waybill, or other commercial loading document shall contain the appropriate AES proof of filing citations, covering all cargo for which EEI is required, or exemption legends, covering cargo for which EEI need not be filed by the regulations of this part. Such annotation shall be without material change or amendment of AES proof of filing citations or exemption legends as provided to the carrier by the USPPI or its authorized agent.

(1) Vessels. Vessels transporting goods as specified (except vessels exempted by paragraph (a)(4) of this section) shall file a complete manifest. Manifests may be filed via paper or electronically through the AES Vessel Transportation Module as provided in CBP Regulations, 19 CFR 4.63 and 4.76.

(i) Bunker fuel. The manifest (including vessels taking bunker fuel to be laden aboard vessels on the high seas) clearing for foreign countries shall show the quantities and values of bunker fuel taken aboard at that port for fueling use of the vessel, apart from such quantities as may have been laden on vessels as cargo.

(ii) Coal and fuel oil. The quantity of coal shall be reported in metric tons (2240 pounds), and the quantity of fuel oil shall be reported in barrels of 158.98 liters (42 gallons). Fuel oil shall be described in such manner as to identify diesel oil as distinguished from other types of fuel oil.

(2) Aircraft. Aircraft transporting goods shall file a complete manifest as required in CBP Regulations 19 CFR 122.72 through 122.76. The manifest shall be filed with the CBP Port Director at the port where the goods are laden. For shipments from the United States to Puerto Rico, the manifests shall be filed with the CBP Port Director at the port where the goods are unladed in Puerto Rico.

(3) Rail carriers. Rail carriers transporting goods shall file a car manifest with the CBP Port Director at the border port of export in accordance with 19 CFR Part 123.

(4) Carriers not required to file manifests. Carriers exempted from filing manifests under applicable CBP regulations are required, upon request, to present to the CBP Port Director, the proof of filing citation or exemption legend for each shipment.

(5) Penalties. Failure of the carrier to file a manifest as required constitutes a violation of the regulations in this part and renders such carrier subject to the penalties provided for in subpart H of this part.

(b) Partially exported shipments. Except as provided in paragraph (c) of this section, when a carrier identifies, prior to filing the manifest, that a portion of the goods covered by a single EEI transaction has not been exported on the intended carrier, it shall be noted on the manifest submitted to CBP. The carrier shall notify the USPPI or the authorized agent of changes to the commodity data, and the USPPI or the authorized agent shall electronically transmit the corrections, cancellations, or amendments as soon as they are known in accordance with § 30.9. Failure by the carrier to correct the manifest constitutes a violation of the regulations in this part, and renders the carrier subject to the penalties provided for in subpart H of this part.

(c) “Split shipments” by air. When a shipment by air covered by a single EEI transmission is exported in more than one aircraft of the carrier, the “split shipment” procedure provided in § 30.28 shall be followed by the carrier in delivering manifests with the proof of filing citation or exemption legend to the CBP Port Director.

(d) Attachment of commercial documents. The manifest shall carry a notation that values stated are as presented on the bills of lading, cargo lists, or other commercial documents. The bills of lading, cargo lists, or other commercial forms shall be securely attached to the manifest in such manner as to constitute one document. The manifest shall reference the statement “Cargo as per bills of lading attached” or “Cargo as per commercial forms attached.” Also required on the face of each bill of lading shall be the information required by the manifest for cargo covered by that document.

(e) Exempt items. For any item for which EEI need not be reported by the regulations in this part, a notation on the manifest, or an oral declaration to the CBP Port Director, shall be made by the carrier as to the basis for the exemption.

(f) Proof of filing citations and exemption legends.

(1) The exporting carrier shall not accept paper SEDs under any circumstances nor load cargo that does not have an appropriate proof of filing citation or exemption legend.

(2) The exporting carrier is subject to the penalties provided for in subpart H of this part if the exporting carrier

(i) Accepts paper SEDs for cargo or

(ii) Loads cargo without appropriate AES proof of filing citations or exemption legends.

§ 30.46 Requirements for the filing of export information by pipeline carriers.

The operator of a pipeline may transport goods to a foreign country without the prior filing of the proof of filing citation or exemption legend, on the condition that within four (4) calendar days following the end of each calendar month the operator will deliver to the CBP Port Director the proof of filing citations covering all exports through the pipeline to each consignee during the month.

§ 30.47 Clearance or departure of carriers under bond on incomplete manifests.

(a) Except when carriers are transporting goods from the United States to Puerto Rico, clearance or permission to depart may be granted to any carrier by the CBP Port Director prior to the filing of a complete manifest, to the extent authorized, per the bond provisions as contained in 19 CFR 4.75, 4.76, and 122.74.

(b) Except as provided in 19 CFR 4.75, 4.76 and 122.74 as applicable, on the bond, or on a separate listing as part of the bond, a pro forma list of AES proof of filing citations and exemption legends shall be shown by the departing carrier. This listing may be waived by the CBP Port Director if such waiver does not interfere with the ability of the CBP Port Director to check on performance under the bond or with identifying shipments for which statistical data are required.

§§ 30.48—30.49 [Reserved]

Subpart F-Import Requirements

§ 30.50 General requirements for filing import entries.

Electronic entry filing Automated Broker Interface (ABI), paper import entry summaries (CBP-7501), or paper record of vessel foreign repair or equipment purchase (CBP-226) shall be completed by the importer or its licensed import broker and filed directly with CBP in accordance with 19 CFR. Information on all mail and informal entries required for statistical and CBP purposes shall be reported, including value not subject to duty. Upon request, the importer or import broker shall provide the Census Bureau with information or documentation necessary to verify the accuracy of the reported information, or to resolve problems regarding the reported import transaction received by the Census Bureau.

(a) Import information for statistical purposes shall be filed for goods shipped as follows:

(1) Entering the United States from foreign countries.

(2) Admitted to U.S. FTZs.

(3) From the U.S. Virgin Islands.

(4) From other non-foreign areas (except Puerto Rico).

(b) Sources for collecting import statistics include the following:

(1) CBP's ABI Program (see 19 CFR, subpart A, part 143).

(2) CBP-7501 paper entry summaries required for individual transactions (see 19 CFR, subpart B, part 142).

(3) CBP-226, Record of Vessel Foreign Repair or Equipment Purchase (see 19 CFR 4.7 and 4.14).

(4) CBP-214, Application for Foreign Trade Zone Admission and/or Status Designation (Statistical copy).

(5) Automated Foreign Trade Zone Reporting Program (AFTZRP).

§ 30.51 Statistical information required for import entries.

The information required for statistical purposes is, in most cases, also required by CBP regulations for other purposes. Refer to CBP Web site at http://www.cbp.gov to download “Instructions for Preparation of CBP-7501,” for completing the paper entry summary documentation (CBP-7501). Refer to the Customs and Trade Automated Interface Requirements for instructions on submitting an ABI electronic record, or instructions for completing the CBP-226 for declaring any equipment, repair parts, materials purchased, or expense for repairs incurred outside of the United States.

§ 30.52 Foreign Trade Zones.

Foreign goods entering FTZs shall be reported as a general import. When goods are withdrawn from a FTZ for export to a foreign country, the export shall be reported in accordance with § 30.2. When goods are drawn for domestic consumption or entry into a bonded warehouse, the withdrawal shall be reported on CBP-7501 or through the ABI in accordance with CBP regulations. (This section emphasizes the reporting requirements contained in CBP regulations 19 CFR part 146, “Foreign Trade Zones.”) When foreign goods enter a FTZ, the zone operator is required to file CBP-214, “Application for Foreign Trade Zone Admission and/or Status Designation.” Refer to the CBP Web site for instructions on completing the CBP-214. Per 19 CFR 146.32(a), the applicant for admission shall present the CBP-214 to the Port Director and shall include the statistical (pink) copy, CBP-214(A), for transmittal to the Census Bureau, unless the applicant makes arrangements for the electronic transmission of statistical information to the Census Bureau through the AFTZRP. Companies operating in FTZs interested in reporting CBP-214 statistical information electronically on a monthly basis shall apply directly to the Census Bureau. Monthly electronic reports shall be filed with the Census Bureau no later than the tenth calendar day of the month following the report month. Participation in the Census Bureau program does not relieve companies of the responsibility to file the CBP-214 with CBP. The following data items are required to be filed, in the AFTZRP, for statistical purposes (Use the instructions and definitions provided in 19 CFR part 146 for completing these fields.):

(a) HTS Classification Code.

(b) Country of Origin.

(c) Country Sub-code.

(d) U.S. Port of Entry.

(e) U.S. Port of Unlading.

(f) Transaction Type.

(g) Statistical Month.

(h) Mode of Transportation.

(i) Company Authorization Symbol.

(j) Carrier Code.

(k) Foreign Port of Lading.

(l) Date of Exportation.

(m) Date of Importation.

(n) Special Program Indicator Field.

(o) Unit of Quantity.

(p) CBP (dutiable) Value.

(q) Gross (shipping) Weight.

(r) Charges.

(s) U.S. Value.

(t) FTZ/Subzone Number.

(u) Zone Admission Number.

(v) Vessel Name.

(w) Serial number.

(x) Trade Identification.

(y) Admission Date.

§ 30.53 Import of goods returned for repair.

Import entries covering U.S. goods imported temporarily for repair or alteration and reexport are required to show the following statement: “Imported for Repair and Reexport” on the CBP-7501 or in the ABI entry. Whenever goods are returned to the United States after undergoing either repair, alteration, or assembly under HTS heading 9802, the country of origin shall be shown as the country in which the repair, alteration, or assembly is performed. When the goods are for reexport and if they meet all of the requirements for filing EEI, file according to the instructions provided in § 30.2, except for the following data items:

(a) Value. Report the value of the repairs, including parts and labor. Do not report the value of the original product. If goods are repaired under warranty, at no charge to the customer, report the cost to repair as if the customer is being charged.

(b) HTS Classification Code. Report HTS commodity classification code, 9801.10.0000 for goods re-exported after repair.

§ 30.54 Special provisions for imports from Canada.

(a) When certain softwood lumber products described under Harmonized Tariff Schedule of the United States (HTSUS) subheadings 4407.1000, 4409.1010, 4409.1090, and 4409.1020 are imported from Canada, import entry records are required to show a valid Canadian Province of Manufacture Code. The Canadian Province of Manufacture is determined on a first mill basis (the point at which the item was first manufactured into a covered lumber product). For purposes of determination, Province of Manufacture is the first province where the subject goods underwent a change in tariff classification to the tariff classes cited in this paragraph. The Province of Manufacture Code should replace the Country of Origin code on the CBP-7501, Entry Summary form. For electronic ABI entry summaries, the Canadian Province Code should be transmitted in positions 6-7 of the A40 records. These requirements apply only for imports of certain soft lumber products for which the Country of Origin is Canada.

(b) All other imports from Canada, including certain softwood lumber products not covered in paragraph (a) of this section, will require the two-letter designation of the Canadian Province of Origin to be reported on U.S. entry summary records. This information is required only for U.S. imports that under applicable CBP rules of origin are determined to originate in Canada. For nonmanufactured goods determined to be of Canadian origin, the Province of Origin is defined as the Province where the exported goods were originally grown, mined, or otherwise produced. For goods of Canadian origin that are manufactured or assembled in Canada, with the exception of the certain softwood lumber products described in paragraph (a) of this section, the Province of Origin is that in which the final manufacture or assembly is performed prior to exporting that good to the United States. In cases where the province in which the goods were manufactured, assembled, grown, mined, or otherwise produced is unknown, the province in which the Canadian vendor is located can be reported. For those reporting on paper forms the Province of Origin code replaces the country of origin code on the CBP-7501, Entry Summary form.

(c) All electronic ABI entry summaries for imports originating in Canada also required the new Canadian Province of Origin code to be transmitted for each entry summary line item in the A40 record positions 6-7.

(d) The Province of Origin code replaces the Country of Origin code only for imports that have been determined, under applicable CBP rules, to originate in Canada. Valid Canadian Province/Territory codes are:

XA—Alberta

XB—New Brunswick

XC—British Columbia

XM—Manitoba

XN—Nova Scotia

XO—Ontario

XP—Prince Edward Island

XQ—Quebec

XS—Saskatchewan

XT—Northwest Territories

XV—Nunavut

XW—Newfoundland

XY—Yukon

§ 30.55 Confidential information, import entries, and withdrawals.

The contents of the statistical copies of import entries and withdrawals on file with the Census Bureau are treated as confidential and will not be released without authorization by CBP, in accordance with 19 CFR 103.5 relating to the copies on file in CBP offices. The importer or import broker must provide the Census Bureau with information or documentation necessary to verify the accuracy or resolve problems regarding the reported import transaction.

(a) The basic responsibility for obtaining and providing the information required by the general statistical headnotes of the HTS rests with the person filing the import entry. This is provided for in section 484(a) of the Tariff Act, 19 CFR 141.61(e) of CBP regulations, and § 30.50 of this subpart. Authority can also be found in CBP Regulations 19 CFR 141.61(a) which require that the entry summary data clearly set forth all information required.

(b) 19 CFR 141.61(e) of the CBP regulations provides that penalty procedures relating to erroneous statistical information shall not be invoked against any person who attempts to comply with the statistical requirements of the General Statistical Notes of the HTS. However, in those instances where there is evidence that statistical suffixes are misstated to avoid quota action, or a misstatement of facts is made to avoid import controls or restrictions related to specific commodities, the importer or its licensed broker should be aware that the appropriate actions will be taken under 19 U.S.C. 1592, as amended.

§§ 30.56-30.59 [Reserved]

Subpart G—General Administrative Provisions

§ 30.60 Confidentiality of Electronic Export Information.

(a) Confidential status. The EEI contained in the AES is confidential, to be used solely for official purposes as authorized by the Secretary of Commerce. The collection of EEI by the Department of Commerce has been approved by the Office of Management and Budget. The information collected is used by the Census Bureau for statistical purposes only and by the BIS of the Department of Commerce for export control purposes. In addition, EEI is used by other Federal agencies such as the Department of State and CBP for export control. Except as provided for in paragraph (f) of this section, information reported through the AES shall not be disclosed to anyone by any officer, employee, contractor, or agent of the federal government other than to the USPPI, FPPI, the authorized agent of the USPPI or the FPPI, or the transporting carrier (the parties). Such disclosure shall be limited to that information provided to the AES by each party.

(b) Penalties. Disclosure of confidentiality of EEI by any officer, employee, contractor, or agent of the Federal Government except as provided for in paragraphs (a) and (f) of this section renders such persons subject to the penalties provided for in subpart H of this part.

(c) Supplying EEI for official purposes. The EEI may be supplied to federal agencies for official purposes, defined to include, but not limited to:

(1) Verification of export shipments for export control and compliance purposes;

(2) Providing proof of export; and

(3) Compliance and audit purposes by the USPPI, FPPI, agents of USPPI and FPPI, and carriers. Such disclosure shall be limited to that information provided to the AES by each party. Official purposes shall also include those determined to be in the national interest pursuant to Title 13 U.S.C., Section 301(g) and paragraph (e) of this section.

(d) Supplying EEI for non-official purposes. The EEI shall not be disclosed by the USPPI or the authorized agent or representative of the USPPI or authorized agent for non-official purposes, defined to include, but not limited to:

(1) Claims for exemption from Federal internal revenue tax or state taxes;

(2) Use by the IRS for purposes not related to export control or compliance;

(3) Use by state and local government agencies, and non-governmental entities; and

(4) Use by foreign governments.

(e) Copying of information to manifests. Because the ocean manifest can be made public under provision of CBP regulations, no information from the EEI, except the ITN, proof of filing citation or exemption legend, shall be copied to the outward manifest of ocean carriers.

(f) Determination by the Secretary of Commerce. Under Title 13, U.S.C., Chapter 9, Section 301(g), the EEI is exempt from public disclosure unless the Secretary or delegate determines that such exemption would be contrary to the national interest. The Secretary or his or her delegate may make such information available, if he or she determines it is in the national interest, taking such safeguards and precautions to limit dissemination as deemed appropriate under the circumstances. In recommendations or decisions regarding such actions, it shall be presumed to be contrary to the national interest to provide EEI for purposes set forth in paragraph (d) of this section. In determining whether, under a particular set of circumstances, it is contrary to the national interest to apply the exemption, the maintenance of confidentiality and national security shall be considered as important elements of national interest.

§ 30.61 Statistical classification schedules.

The following statistical classification schedules are referenced in this part. These schedules, except as noted, may be accessed through the Census Bureau's Web site at: http://www.census.gov/trade.

(a) Schedule B: Statistical Classification for Domestic and Foreign Commodities Exported from the United States shows the detailed commodity classification requirements and 10-digit statistical reporting numbers to be used in preparing EEI, as required by the regulations in this part.

(b) Harmonized Tariff Schedules of the United States Annotated for Statistical Reporting shows the 10-digit statistical reporting number to be used in preparing import entries and withdrawal forms. (Note: This site is maintained by the United States International Trade Commission (USITC) at http://www.usitc.gov.)

(c) Schedule C—Classification of Country and Territory Designations for U.S. Foreign Trade Statistics.

(d) Schedule D—Classification of CBP Districts and Ports for U.S. Foreign Trade Statistics.

(e) Schedule K—Classification of Foreign Ports by Geographic Trade Area and Country. (Note: This site is maintained by the Army Corps of Engineers.)

(f) International Air Transport Association (IATA)—Code of the carrier for air shipments. These are the 2-digit or 3-digit air carrier codes to be used in reporting EEI, as required by the regulations in this part.

(g) Standard Carrier Alpha Code (SCAC)—Classification of the carrier for vessel, rail and truck shipments, showing the 4-character code necessary to prepare EEI, as required by the regulations in this part. (Note: This site is maintained by the National Motor Freight Traffic Association at http://www.nmfta.org.)

§ 30.62 Emergency exceptions.

The Census Bureau and CBP may jointly authorize the postponement of or exceptions to the requirements of the regulations in this part as warranted by the circumstances in individual cases of emergency where strict enforcement of the regulations would create a hardship. In cases where export control requirements also are involved, the concurrence of the regulatory agency and CBP also will be obtained.

§ 30.63 Office of Management and Budget control numbers assigned pursuant to the Paperwork Reduction Act.

(a) Purpose. This subpart will comply with the requirements of the Paperwork Reduction Act (PRA), 44 U.S.C. 3507(f), which requires that agencies display a current control number assigned by the Director of OMB for each agency information collection requirement.

(b) Display.

15 CFR section where identified and described | Current OMB control no.
30.1 through 30.99 | 0607-0152

§§ 30.64-30.69 [Reserved]

Subpart H—Penalties

§ 30.70 Violation of the Clean Diamond Trade Act.

Public Law 108-19, the Clean Diamond Trade Act (the Act), section 8(c), authorizes CBP and the Bureau of Immigration and Customs Enforcement (ICE), as appropriate, to enforce the laws and regulations governing exports of rough diamonds, including those with respect to the validation of the Kimberley Process Certificate by the exporting authority. The Treasury Department's OFAC also has enforcement authority pursuant to section 5(a) of the Clean Diamond Trade Act (the Act), Executive Order 13312, and Rough Diamonds Control Regulations (31 CFR part 592). CBP, ICE, and OFAC, pursuant to section 5(a) of the Act, are further authorized to enforce provisions of section 8(a) of the Act, that provide for the following civil and criminal penalties:

(a) Civil penalties. A civil penalty not to exceed $10,000 may be imposed on any person who violates, or attempts to violate, any order or regulation issued under the Act.

(b) Criminal penalties.For the willful violation or attempted violation of any license, order, or regulation issued under the Act, a fine not to exceed $50,000, shall be imposed upon conviction, or;

(1) If a natural person, imprisoned for not more than ten (10) years, or both;

(2) If an officer, director, or agent of any corporation, imprisoned for not more than 10 years, or both.

§ 30.71 False or fraudulent reporting on or misuse of the Automated Export System.

(a) Criminal penalties. (1) Failure to file; submission of false or misleading information. Any person, including USPPIs, authorized agents or carriers, who knowingly fails to file or knowingly submits, directly or indirectly, to the U.S. Government, false or misleading export information through the AES, shall be subject to a fine not to exceed $10,000 or imprisonment for not more than five (5) years, or both, for each violation.

(2) Furtherance of illegal activities. Any person, including USPPIs, authorized agents or carriers, who knowingly reports, directly or indirectly, to the U.S. Government any information through or otherwise uses the AES to further any illegal activity shall be subject to a fine not to exceed $10,000 or imprisonment for not more than five (5) years or both for each violation.

(3) Forfeiture penalties. Any person who is convicted under this subpart shall, in addition to any other penalty, be subject to forfeiting to the United States:

(i) Any of that person's interest in, security of, claim against, or property or contractual rights of any kind in the goods or tangible items that were the subject of the violation.

(ii) Any of that person's interest in, security of, claim against, or property or contractual rights of any kind in tangible property that was used in the export or attempt to export that was the subject of the violation.

(iii) Any of that person's property constituting, or derived from, any proceeds obtained directly or indirectly as a result of this violation.

(4) Exemption. The criminal fines provided for in this subpart are exempt from the provisions of section 3571 of Title 18, U.S.C.

(b) Civil penalties. (1) Filing false/misleading information, failure to file, furtherance of illegal activities, delayed filing violations. A civil penalty not to exceed $1,000 for each day's delinquency beyond the applicable period prescribed in § 30.4, but not more than $10,000 per violation, may be imposed for failure to file information or reports in connection with the exportation or transportation of cargo.

(2) Penalties for other violations. A civil penalty not to exceed $10,000 per violation may be imposed for each violation of provisions of this part other than any violation encompassed by paragraph (b)(1) of this section. Such penalty may be in addition to any other penalty imposed by law.

(3) Forfeiture penalties. In addition to any other civil penalties specified in this section, any property involved in a violation may be subject to forfeiture under applicable law.

§ 30.72 Civil penalty procedures.

(a) General. Whenever a civil penalty is sought for a violation of this part, the charged party is entitled to receive a formal complaint specifying the charges and, at his or her request, to contest the charges in a hearing before an administrative law judge. Any such hearing shall be conducted in accordance with sections 556 and 557 of Title 5, U.S.C.

(b) Commencement of civil actions. If any person fails to pay a civil penalty imposed under this subpart, the Secretary may request the Attorney General to commence a civil action in an appropriate district court of the United States to recover the amount imposed (plus interest at currently prevailing rates from the date of the final order). No such action may be commenced more than five (5) years after the date the order imposing the civil penalty becomes final. In such action, the validity, amount, and appropriateness of such penalty shall not be subject to review.

(c) Remission and mitigation. Any penalties imposed under § 30.71(b)(1) and (b)(2) may be remitted or mitigated, if:

(1) The penalties were incurred without willful negligence or fraud; or

(2) Other circumstances exist that justify a remission or mitigation.

(d) Applicable law for delegated function. If, pursuant to Title 13, U.S.C., section 306, the Secretary delegates functions addressed in this part to another agency, the provisions of law of that agency relating to penalty assessment, remission or mitigation of such penalties, collection of such penalties, and limitations of action and compromise of claims shall apply.

(e) Deposit of payments in General Fund of the Treasury. Any amount paid in satisfaction of a civil penalty imposed under this subpart shall be deposited into the general fund of the Treasury, and credited as miscellaneous receipts.

§ 30.73 Enforcement.

(a) Department of Commerce. The BIS's Office of Export Enforcement (OEE) may conduct investigations pursuant to this part. In conducting investigations, OEE may, to the extent necessary or appropriate to the enforcement of this part, exercise such authorities as are conferred upon OEE by other laws of the United States, subject to policies and procedures approved by the Attorney General.

(b) Department of Homeland Security. The ICE and CBP may enforce the provisions of this part or conduct investigations under this part.

§§ 30.74-30.99 [Reserved]

Appendix A to Part 30—Format for the Letter of Intent, Automated Export System

The first requirement for approval/certification to file in the AES is to submit an electronic Letter of Intent (LOI). The LOI is a statement of a company's desire to participate in the AES. It shall set forth a commitment to develop, maintain, and adhere to CBP and Census performance requirements and operations standards. Once the LOI is received, a CBP Client Representative and a U.S. Census Bureau Client Representative will be assigned to the company. Census will forward additional information to prepare the company for participation in the AES.

The AES postdeparture filing privilege allows a USPPI approved to file postdeparture (an approved USPPI) or an authorized agent filing on behalf of an approved USPPI to submit complete export data at any time prior to or within ten (10) calendar days after the date of exportation. Applicants will be reviewed by several government agencies prior to acceptance for the postdeparture filing. Failure to provide complete and accurate information will be grounds for rejecting the LOI for the postdeparture filing option. Incomplete or inaccurate information on the LOI for the predeparture filing status will be returned without action to the organization filing the application.

The LOIs shall include all of the following:

1. Company Name, Address (no P.O. boxes), City, State, Postal Code.

2. Company Contact Person, Phone Number, Fax Number, E-mail Address.

3. Technical Contact Person, Phone Number, Fax Number, E-mail Address.

4. Corporate Office Address, City, State, Postal Code.

5. Type of Business—USPPI, Authorized Agent/Broker, Ocean Carrier, Software Vendor, Service Center, etc. (Indicate all that apply).

(i) Authorized Agents/Brokers, indicate the number of USPPIs for which export information is filed.

(ii) USPPIs, indicate whether you applied for AES predeparture and/or postdeparture filing (only USPPIs can apply for postdeparture filing).

6. Identify the filing type sought: Predeparture, Postdeparture filing, or BOTH

(Note: Only USPPIs can apply for postdeparture filing).

If applying for postdeparture filing, state/identify the reason for the request.

7. Filer Code—EIN, SSN, or DUNS (Indicate all that apply).

8. Description of products exported and 6-digit Schedule B/HTS number(s). Only the 6-digit Schedule B/HTS number(s) identified will be approved for use in postdeparture filing.

(i) Indicate seasonal product(s).

(ii) Identify why the product is seasonal.

9. Types of Licenses or Permits.

10. U.S. Ports of Export Expected to be Utilized.

11. Average Monthly Number of Export Shipments requiring the filing of EEI.

12. Average Monthly Value of Export Shipments requiring the filing of EEI.

13. Software Vendor Name, Contact, and Phone Number (if using vendor provided software).

14. Modes of Transportation used for export shipments (Air, Vessel, Truck, Rail, etc.).

15. The following self-certification statement, signed by an officer of the company: “I, ___ representing or on behalf of, (COMPANY NAME) certify that all statements made and all information provided herein are true and correct. I understand that civil and criminal penalties may be imposed for making false or fraudulent statements herein, failing to provide the requested information or for violation of U.S. laws on exportation (13 U.S.C. 305; 18 U.S.C. 1001).”

BILLING CODE 3510-07-P

Dated: February 10, 2005.
Charles Louis Kincannon,
Director, Bureau of the Census.

[FR Doc. 05-2926 Filed 2-16-05; 8:45 am]

BILLING CODE 3510-07-C